DEPARTMENT OF TRANSPORTATION

Pipeline and Hazardous Materials Safety Administration

49 CFR Parts 192, 193, 195, and 199

[Docket No. PHMSA-2011-0337]

RIN 2137-AE85

Pipeline Safety: Periodic Updates of Regulatory References to Technical Standards and Miscellaneous Amendments

AGENCY: Pipeline and Hazardous Materials Safety Administration (PHMSA), Department of Transportation (DOT).

ACTION: Notice of proposed rulemaking (NPRM).

SUMMARY: PHMSA is proposing to amend the pipeline safety regulations to incorporate by reference (IBR) all or parts of new, updated, or reaffirmed editions of voluntary consensus standards that are available on the Internet, free-of-charge, to the public. PHMSA is also proposing to make non-substantive edits and to clarify regulatory language in certain provisions. These proposed changes are relatively minor, and would not require pipeline operators to undertake any significant new pipeline safety initiatives.

DATES: Submit comments on the subject of this NPRM on or before October 15, 2013.

ADDRESSES: You may submit comments, identified by docket ID PHMSA-2011-0337, by any of the following methods:

E-Gov Web: http://www.regulations.gov. This site allows the public to enter comments on any Federal Register notice issued by any agency. Follow the online instructions for submitting comments.

Mail: Docket Management System: U.S. Department of Transportation (DOT), 1200 New Jersey Avenue SE., West Building Ground Floor, Room W12-140, Washington, DC 20590-0001.

Hand Delivery or Courier: DOT Docket Management System: West Building Ground Floor, Room W12-140, 1200 New Jersey Avenue SE., between 9:00 a.m. and 5:00 p.m. EST, Monday through Friday, except Federal holidays.

Fax: 202-493-2251.

Instructions: Identify the docket ID, PHMSA-2011-0337, at the beginning of your comments. If you submit your comments by mail, submit two copies. If you wish to receive confirmation that PHMSA received your comments, include a self-addressed stamped postcard. Internet users may submit comments at http://www.regulations.gov.

Note: All comments received will be posted without edits to http://www.regulations.gov, including any personal information provided. Please see the Privacy Act heading below.

Privacy Act: Anyone is able to search the electronic comments received into any of our dockets by the name of the individual submitting the comment (or signing the comment, if submitted on behalf of an association, business, labor union, etc.). You may review DOT's complete Privacy Act Statement in the Federal Register published on April 11, 2000, (65 FR 19477-78) or you may visit http://docketsinfo.dot.gov.

Docket: For access to the docket to read background documents or comments received, go to http://www.regulations.gov. Follow the online instructions for accessing the dockets. Alternatively, you may review the documents in person at the street address listed above.

FOR FURTHER INFORMATION CONTACT:

Technical Information: Mike Israni, (202) 366-4571, or by email at mike.israni@dot.gov.

Regulatory Information: Cheryl Whetsel by phone at (202) 366-4431 or by email at cheryl.whetsel@dot.gov.

SUPPLEMENTARY INFORMATION:

I. Background

The National Technology Transfer and Advancement Act of 1995 (Pub. L. 104-113; March 7, 1996) directs Federal agencies to use voluntary consensus standards and design specifications developed by voluntary consensus standard bodies instead of government-developed voluntary technical standards, when applicable. The Office of Management and Budget (OMB) Circular A-119: “Federal Participation in the Development and Use of Voluntary Consensus Standards and in Conformity Assessment Activities” sets the policy for Federal use and development of voluntary consensus standards. As defined in OMB Circular A-119, voluntary consensus standards are technical standards developed or adopted by organizations, both domestic and international. These organizations use agreed upon procedures to update and revise their published standards every three to five years to reflect modern technology and best technical practices.

The legal effect of incorporation by reference is that the material is treated as if it were published in the Federal Register and Code of Federal Regulations (CFR). This material, like any other properly issued rule, has the force and effect of law. Congress authorized incorporated by reference to reduce the volume of material published in the Federal Register and CFR. (See 5 U.S.C. 552(a) and 1 CFR Part 51.). Congress granted authority to the Director of the Federal Register to determine whether a proposed incorporation by reference serves the public interest.

There are 64 standards and specifications incorporated by reference in 49 CFR part 192, Transportation of Natural and Other Gas by Pipeline: Minimum Federal Safety Standards; 49 CFR part 193, Liquefied Natural Gas Facilities: Federal Safety Standards; and 49 CFR part 195, Transportation of Hazardous Liquids by Pipeline.

PHMSA regularly reviews updates to currently referenced consensus standards as well as new editions to ensure that the content remains consistent with the intent of the pipeline safety regulations. PHMSA employees participate in more than 25 national voluntary consensus standards-setting organizations that address pipeline design, construction, maintenance, inspection, and repair. As representatives of the agency, these subject matter experts actively participate in discussions and technical debates, register opinions and vote in accordance with the procedures of the standards body at each stage of the standards development process (unless prohibited from doing so by law). However, it is important to note that agency participation does not necessarily constitute agency agreement with, or endorsement of, decisions reached by such organizations. PHMSA has the ultimate responsibility to ensure public safety and will only adopt those portions of standards into the Federal regulations that meet the agency's directive(s) to ensure the best interests of public safety are served. Agency participation in the development of voluntary consensus standards is important to eliminate the necessity for development or maintenance of separate government-unique standards; to further national goals and objectives such as increased use of environmentally sound and energy efficient materials, products, systems, services, or practices; and to improve public safety. New or updated standards often further innovation and increase the use of new technologies, materials, and management practices that improve the safety and operations of pipelines and pipeline facilities.

Section 24 of the “Pipeline Safety, Regulatory Certainty, and Job Creation Act of 2011” (Pub. L. 112-90, January 3, 2012), amended 49 U.S.C. 60102 by adding a new requirement on documents incorporated by reference after January 3, 2013. The law states, “Beginning 1 year after the date of enactment of this subsection, the Secretary may not issue guidance or a regulation pursuant to this chapter that incorporates by reference any documents or portions thereof unless the documents or portions thereof are made available to the public, free of charge, on an Internet Web site.” To meet this requirement, PHMSA negotiated agreements with the majority of the standards-setting organizations with documents incorporated by reference in the pipeline safety regulations. These organizations are:

—American Petroleum Institute (API).

—American Gas Association (AGA).

—American Society for Testing and Materials (ASTM).

—Gas Technology Institute (GTI).

—Manufacturers Standardization Society of the Valve and Fittings Industry, Inc. (MSS).

—NACE International (NACE).

—National Fire Protection Association (NFPA).

Each of the organizations' mailing addresses and Web sites are listed in Parts 192, 193, and 195. In this NPRM, PHMSA has identified two new standards (one to be partially incorporated) and 21 updated editions of currently referenced standards to incorporate in Parts 192, 193, and 195. PHMSA also is proposing miscellaneous edits to the pipeline safety regulations, including removing § 199.111 because the requirements in that section are adequately covered by 49 CFR part 40.

Previous updates to incorporate industry standards by reference were published on August 11, 2010, (75 FR 48593), February 1, 2007, (72 FR 4657), June 9, 2006, (71 FR 33402), June 14, 2004, (69 FR 32886), February 17, 1998, (63 FR 7721), June 6, 1996, (61 FR 2877) and May 24, 1996, (61 FR 26121).

II. New Standards To Be Incorporated by Reference (Fully or Partially)

API Recommended Practice 5LT

PHMSA is proposing to adopt API Recommended Practice 5LT, “Recommended Practice for Truck Transportation of Line Pipe,” (First edition, March 1, 2012) to address the National Transportation Safety Board's (NTSB) Recommendation P-04-03.

During its investigation of a July 2002 pipeline incident, the NTSB determined that the probable cause of the pipeline rupture was inadequate loading of the pipe for transportation that allowed a fatigue crack to initiate along the seam of the longitudinal weld during transit. NTSB recommended that PHMSA revise its regulations to require that the transportation of all pipe be subject to API standards. In a final rule published on August 11, 2010, titled, “Periodic Updates of Regulatory References to Technical Standards and Miscellaneous Edits,” (Docket No. PHMSA-2008-0301, (75 FR 48593)), PHMSA incorporated by reference the, “Recommended Practice for Railroad Transportation of Line Pipe,” API RP 5L1, as rail transportation has generally been considered to be the most likely source of transit fatigue cracking. At the same time, PHMSA and the API formed a working group to evaluate the need for a truck transportation standard to prevent damage to pipe as recommended by NTSB. A standard was drafted and published in March 2012. Thus, PHMSA is proposing to incorporate by reference this new standard as follows:

—API “Recommended Practice for Truck Transportation of Line Pipe” (First edition) (March 1, 2012). (API RP 5LT).

—Referenced in § 192.65 and § 195.207.

ASTM D 2513-09a

PHMSA is proposing to incorporate by reference ASTM D2513-09a, “Standard Specification for Polyethylene (PE) Gas Pressure Pipe, Tubing, and Fittings,” for PE materials, except for section 4.2 which addresses rework material. Section 4.2 states: “Clean rework material of the same commercial designation, generated from the manufacturer's own pipe and fitting production shall not be used unless the pipe and fitting produced meets all the requirements of this specification. The use of these rework materials shall be governed by the requirements of section 4.3 and PPI Technical Note (TN)-30/2006.” In PE pipe, “rework materials shall be limited to a maximum of 30% by weight.”

The main steps of PE pipe manufacturing include an extrusion process where raw material (usually supplied in the form of pellets) is heated, melted, mixed and conveyed into a die and shaped into a pipe. Rework (also known as regrind) is a process by which plastic pipe that does not fall within acceptable specifications following the extrusion process can be reused if it meets certain requirements. Such requirements include reducing the size of the material through appropriate stages (i.e., regrinding the material) and avoiding introducing contamination. The end goal is for the material to have an equivalent cleanliness and size to the virgin material prior to going back through the extrusion process. Additional requirements are discussed in PPI TN-30/2006, “Requirements for the Use of Rework Materials in Manufacturing of Polyethylene Gas Pipe” available publicly at http://www.plasticpipe.org/pdf/tn-30_rework_materials_in_pe_gas_pipe.pdf. Even after taking into account the requirements in PPI TN-30/2006, PHMSA is concerned that there is too much potential for contamination to be introduced during the rework process. In the interest of pipeline safety and to ensure the integrity of this type of pipe, it seems prudent not to allow any reworked pipe, let alone up to a maximum of 30% by weight as specified in ASTM D2513-09a. PHMSA sees no reason for allowing the use of reworked material and cannot be certain its use would provide an equivalent or better level of safety.

For additional technical basis, PHMSA is inviting comments on prohibiting rework materials, as well as potential alternatives for limiting the use of rework materials. For example, one alternative might be to establish limits on the use of rework materials by pipe diameter (e.g., no rework material is allowed for pipe two inches Iron Pipe Size (IPS) and below in diameter and the requirements in ASTM D2513-09a, section 4.2 would be acceptable for pipe larger than two inches IPS in diameter). Another alternative might be to allow rework material as required by ASTM D2513-09a, section 4.2, in which case ASTM D2513-09a could possibly be incorporated in whole.

PHMSA is not aware of a specific root cause or technical analyses that would indicate rework (including up to 30%) as a contributing factor in incidents. At the same time, PHMSA is not aware of specific information that discounts rework as a risk. PHMSA is, however, aware that some operators do not allow any rework material. PHMSA is also aware that there is a work item through the ASTM F17.60 committee considering an amendment to ASTM D-2513 that would prohibit rework completely.

With respect to a limitation by diameter, once again, PHMSA does not have firm evidence that two inches is a specific and critical threshold for rework. Smaller diameter pipe (two-inch IPS and less), however, has proven to be more susceptible to past material issues due to typically having a thinner wall. Also, this smaller diameter pipe is often in closer proximity to the customer as it is used as service line piping leading up to end users of natural gas, increasing the potential impact if an incident were to occur.

It should be noted that ASTM D2513-09a is exclusively a PE standard, while the 1999 version addresses other non-metallic piping materials. PHMSA proposes for other non-PE plastic materials to continue to reference the ASTM D2513-87 (for § 192.63 only, marking of materials) and ASTM D2513-99 (except section 4.2 pertaining to rework material) for §§ 192.59 (d); 192.191(b); 192.281(b)(2); 192.283(a)(1)(i); and Item 1, Appendix B to Part 192).

PHMSA believes the incorporation of ASTM D 2513-09a, along with retention of ASTM D2513-87 and 99 is consistent with the petitions for rulemaking received from the the Gas Piping Technology Committee (GPTC) and the American Gas Association. GPTC petitioned PHMSA to adopt ASTM D2513-09a because of significant changes made to ASTM D2513 in the past 10 years. These changes include a new requirement for outdoor storage of PE pipe—three years for yellow pipe and 10 years for black pipe; new high performance PE pipe material designation codes, with increased long-term performance requirements; and more stringent requirements for use of rework material in PE gas pipe. AGA's September 9, 2009 petition requested that PHMSA incorporate by reference the part of ASTM D2513 (2009) addressing color and UV stablizer (Section A1.3.5). PHMSA agrees that the new standard will improve safety, long-term performance, and quality of PE gas distribution pipe.

Therefore, PHMSA is proposing to IBR ASTM D 2513-09a as referenced below and will continue to reference the 1987 and 1999 editions discussed above.

—ASTM D2513-09a, “Standard Specification for Polyethylene (PE) Gas Pressure Pipe, Tubing, and Fittings,” (December 1, 2009), (except section 4.2 pertaining to rework material) (ASTM D2513).

—Referenced in §§ 192.59 (d); 192.63 (a); 192.123 (e); 192.191 (b); 192.281 (b); 192.283 (a); Item 1, Appendix B to Part 192.

III. Standards With Updated Editions Not To Be Incorporated by Reference

PHMSA is not proposing to incorporate the updated editions of the following documents at this time:

American Petroleum Institute

PHMSA is not proposing to incorporate by reference the second edition of the API Recommended Practice (RP) 1162. PHMSA and the state pipeline authorities conducted public awareness effectiveness inspections to assess compliance with Federal regulations that incorporate the first edition of API RP 1162. These were completed in December 2012. Additionally, PHMSA held a public awareness workshop in June 2013 to discuss ways to improve public awareness programs and whether or not to incorporate the second edition of this standard. PHMSA is analyzing the results of the inspections and workshop and will make a determination whether or not to incorporate the second edition at a later date. Therefore, at this time, PHMSA will continue to incorporate the first edition of API RP 1162. The reference for API RP 1162 will remain as follows:

—API Recommended Practice 1162, “Public Awareness Programs for Pipeline Operators,” (1st edition, December 2003) (API RP 1162).

—Referenced in § 192.616 (a), (b), (c).

API Standard 653

PHMSA is not proposing to incorporate by reference API Standard 653, (4th edition) and Addendum (2010) at this time. PHMSA will continue to review this document for consideration in a future update.

Rather, PHMSA is proposing to continue to incorporate the third edition of API Standard 653, “Tank Inspection, Repair, Alteration, and Reconstruction” (3rd edition, 2001), except section 6.4.3. PHMSA is proposing to eliminate the incorporation of section 6.4.3 as it applies to risk-based inspection (RBI) intervals (49 CFR 195.432). PHMSA believes API needs to eliminate the criteria stated in the risk-based option for the inspection interval of a breakout tank listed in API Standard 653. An alternate inspection interval based on a risk-based algorithm generally uses a standardized set of factors. These factors are weighted to calculate the risk of failure with a longer inspection interval. Section 6.4.3 of API Standard 653 (3rd edition) provides no standardized methodology for calculating or determining an alternate inspection interval nor does it provide for a minimum bottom plate thickness in the tank. This thickness is determined as part of the RBI analysis and could conceivably be set at a thickness where leakage may be eminent. Without proper guidance for using an alternate RBI, PHMSA believes that this would not be consistent with safety. Therefore, PHMSA will no longer incorporate section 6.4.3 of API Standard 653 (3rd edition, 2001). The reference to API Standard 653 in the pipeline safety regulations will be changed as follows:

—API Standard 653-2001, “Tank Inspection, Repair, Alteration, and Reconstruction” (3rd edition, 2001), (except section 6.4.3) (API Std 653).

—Referenced in §§ 195.205 (b); 195.307 (d) and 195.432 (b).

IV. New Editions to Currently Referenced Standards To Be Incorporated by Reference

PHMSA proposes to IBR the following updated editions of currently-referenced standards in Parts 192, 193 and 195.

American Petroleum Institute

—API Recommended Practice 5L1, “Recommended Practice for Railroad Transportation of Line Pipe,” (7th Edition, September 2009).

Replaces IBR: API Recommended Practice 5L1, “Recommended Practice for Railroad Transportation of Line Pipe,” (6th Edition, 2002);

Referenced in 49 CFR 192.65; 195.207.

—API Recommended Practice 5LW, “Transportation of Line Pipe on Barges and Marine Vessels,” (3rd edition, September 2009).

Replaces IBR: API Recommended Practice 5LW, “Transportation of Line Pipe on Barges and Marine Vessels,” (2nd edition, December 1996, effective March 1, 1997);

Referenced in 49 CFR 192.65; 195.207.

—ANSI/API Specification 5L/ISO 3183, “Specification for Line Pipe,” ANSI/API Specification 5L/ISO 3183 “Specification for Line Pipe” (45th edition, December 1, 2012).

Replaces IBR: ANSI/API Specification 5L/ISO 3183, “Specification for Line Pipe,” (44th edition, 2007), includes errata (January 2009) and addendum (February 2009);

Referenced in 192.55; 192.112; 192.113; and Item 1, Appendix B to Part 192; 195.106.

—ANSI/API Specification 6D, “Specification for Pipeline Valves,” (23rd edition, April 1, 2008, effective October 1, 2008), includes Errata 1, 2, 3, 4, 5, and 6 (2011) and Addenda 1 and 2 (2011).

Replaces IBR: ANSI/API Specification 6D, “Specification for Pipeline Valves,” (23rd edition (April 2008, effective October 1, 2008)) and errata 3 (includes 1 and 2, February 2009);

Referenced in 49 CFR 192.145; 195.116.

—API Specification 12F, “Specification for Shop Welded Tanks for Storage of Production Liquids,” (12th edition, October 2008, including errata 2008).

Replaces IBR: API Specification 12F, “Specification for Shop Welded Tanks for Storage of Production Liquids,” (11th edition, November 1, 1994, reaffirmed 2000, errata, February 2007);

Referenced in 49 CFR 195.132; 195.205; 195.264; 195.307; 195.565; 195.579.

—API Standard 620, “Design and Construction of Large, Welded, Low-Pressure Storage Tanks” (11th edition, February 2008, addendum 1, March 2009), and addendum 2 (2010).

Replaces IBR: API Standard 620, “Design and Construction of Large, Welded, Low-Pressure Storage Tanks,” (11th edition, February 2008, addendum 1 March 2009);

Referenced in 49 CFR 193.2101; 193.2321; 195.132; 195.205; 195.264; 195.307; 195.565; 195.620.

—API Standard 650, “Welded Steel Tanks for Oil Storage” (11th edition, June 2007), includes addendum 1 (November 2008), addendum 2 (November 2009), addendum 3 (August 2011), and errata (February 2012).

Replaces IBR: API Standard 650, “Welded Steel Tanks for Oil Storage,” (11th edition, June 2007), addendum 1, November 2008, and addendum 2 (2009);

Referenced in 49 CFR 195.132; 195.205; 195.264; 195.307; 195.565; 195.579.

—API Standard 2000, “Venting Atmospheric and Low-Pressure Storage Tanks Non-Refrigerated and Refrigerated,” (6th edition, November 2009).

Replaces IBR: API Standard 2000, “Venting Atmospheric and Low-Pressure Storage Tanks Non-Refrigerated and Refrigerated,” (5th edition, April 1998, errata, November 1999);

Referenced in 49 CFR 195.264.

American Society for Testing and Materials (ASTM)

—ASTM A53/A53M-10, “Standard Specification for Pipe, Steel, Black and Hot-Dipped, Zinc-Coated, Welded and Seamless,” (October 2, 2010).

Replaces IBR: ASTM A53/A53M-07, “Standard Specification for Pipe, Steel, Black and Hot-Dipped, Zinc-Coated Welded and Seamless,” (September 1, 2007);

Referenced in 49 CFR 192.113; Item 1, Appendix B to Part 192; and 195.106.

—ASTM A106/A106M-10, “Standard Specification for Seamless Carbon Steel Pipe for High-Temperature Service,” (July 15, 2008).

Replaces IBR: ASTM A106/A106M-08, “Standard Specification for Seamless Carbon Steel Pipe for High-Temperature Service,” (July 15, 2008);

Referenced in 49 CFR 192.113; Item 1, Appendix B to Part 192; and 195.106.

—ASTM A333/A333M-11 (2011), “Standard Specification for Seamless and Welded Steel Pipe for Low-Temperature Service,” (April 1, 2011).

Replaces IBR: ASTM A333/A 333M-05, “Standard Specification for Seamless and Welded Steel Pipe for Low-Temperature Service;” (March 1, 2005);

Referenced in 49 CFR 192.113; Item 1, Appendix B to Part 192; and 195.106.

—ASTM A372/A372M-10, (reapproved 2005), “Standard Specification for Carbon and Alloy Steel Forgings for Thin-Walled Pressure Vessels,” (October 1, 2010).

Replaces IBR: ASTM A372/A372M-03 (reapproved), “Standard Specification for Carbon and Alloy Steel Forgings for Thin-Walled Pressure Vessels,” (March 1, 2008);

Referenced in 49 CFR 192.177.

—ASTM A671/A671M-10, “Standard Specification for Electric-Fusion-Welded Steel Pipe for Atmospheric and Lower Temperatures,” (April 1, 2010).

Replaces IBR: ASTM A671-06 (2006) “Standard Specification for Electric-Fusion-Welded Steel Pipe for Atmospheric and Lower Temperatures,” (May 1, 2006);

Referenced in 49 CFR 192.113; Item 1, Appendix B to Part 192; and 195.106.

—ASTM A672-09, “Standard Specification for Electric-Fusion-Welded Steel Pipe for High-Pressure Service at Moderate Temperatures,” (October 1, 2009).

Replaces IBR: ASTM A672-08, “Standard Specification for Electric-Fusion-Welded Steel Pipe for High-Pressure Service at Moderate Temperatures,” (May 1, 2008);

Referenced in 49 CFR 192.113; Item 1, Appendix B to Part 192; 195.106.

—ASTM A691-09, “Standard Specification for Carbon and Alloy Steel Pipe, Electric-Fusion-Welded for High-Pressure Service at High Temperatures,” (October 1, 2009).

Replaces IBR: ASTM A691-98 (reapproved 2007), “Standard Specification for Carbon and Alloy Steel Pipe, Electric-Fusion-Welded for High-Pressure Service at High Temperatures,” (November 1, 2007);

Referenced in 49 CFR 192.113; Item 1, Appendix B to Part 192; and 195.106.

Manufacturers Standardization Society of the Valve and Fittings Industry, Inc. (MSS)

—MSS SP-44-2010, Standard Practice, “Steel Pipeline Flanges,” (2010 edition).

Replaces IBR: MSS SP-44-2006, Standard Practice, “Steel Pipeline Flanges,” (2006 edition);

Referenced in 49 CFR 192.147.

—MSS SP-75-2008, “Specification for High Test Wrought Butt Welding Fittings,” (2009 edition).

Replaces IBR: MSS SP-75-2004, “Specification for High Test Wrought Butt Welding Fittings,” (2004 edition);

Referenced in 49 CFR 195.118.

NACE International (NACE)

—NACE Standard SP0502-2010, Standard Practice, “Pipeline External Corrosion Direct Assessment Methodology,” (June 24, 2010).

Replaces IBR: NACE SP0502-2008, Standard Practice, “Pipeline External Corrosion Direct Assessment Methodology,” (reaffirmed March 20, 2008);

Referenced in 49 CFR 192.923; 192.925; 192.931; 192.935; 192.939; 195.588.

National Fire Protection Association (NFPA)

—NFPA-30 (Fire) (2012), “Flammable and Combustible Liquids Code,” includes Errata 1, Errata 2 (2012 edition, June 20, 2011).

Replaces IBR: NFPA-30, “Flammable and Combustible Liquids Code,” (2008 edition, approved August 15, 2007);

Referenced in 49 CFR 192.735; 195.264.

—NFPA-70 (2011), “National Electrical Code,” includes Errata 1, Errata 2 (2011 edition, approved September 24, 2010).

Replaces IBR: NFPA 70 (2008), “National Electrical Code,” (NEC 2008) (Approved August 15, 2007);

Referenced in 49 CFR 192.163; 192.189.

V. Public Availability of Standards

All incorporated by reference documents are available for visual inspection at the following locations:

—The U.S. Department of Transportation, Pipeline and Hazardous Materials Safety Administration, Office of Pipeline Safety, 1200 New Jersey Avenue SE., Washington, DC, 20590-0001or any of PHMSA's five regional offices (addresses available at: http://www.phmsa.dot.gov/pipeline/about/org);

—The National Archives and Records Administration (NARA), Office of the Federal Register (NF), 8601 Adelphi Road, College Park, MD 20740-6001. For information on the availability of this material at NARA, call 202-741-6030 or go to: http://www.archives.gov/federal-register/code-of-federal-regulations/ibr-locations.html; and

—The respective standards developing organizations (SDO) listed in Parts 192, 193, and 195.

All the standards addressed in this NPRM are also available for free on the internet. Direct links to those SDO Web sites are be listed on the PHMSA Web site at: http://www.phmsa.dot.gov.

VI. Clarifications, Corrections and Edits

In this NPRM, PHMSA is also proposing non-substantive editorial amendments and clarifications to the pipeline safety regulations.

Section 192.283(a)(1)(i)

In § 192.283 (a)(1)(i), the language “or paragraph 8.9 (Sustained Static Pressure Test)” has been deleted as PHMSA believes the reference is an error. Paragraph 8.9 does not exist in ASTM D2513-99 nor does it appear in several other versions of this referenced standard. Staff researched several editions of ASTM D2513, the pipeline safety regulations, and Federal Register notices to determine if the paragraph may have been associated with a different standard but found no reference to paragraph 8.9. Furthermore, PHMSA is proposing to delete “-99” after “ASTM D2513” as this section would pertain to both PE and non-PE plastic. The resulting language would read “In the case of thermoplastic pipe, paragraph 6.6 (sustained pressure test) or paragraph 6.7 (minimum hydrostatic burst test) of ASTM D2513 (incorporated by reference, see § 192.7).”

Section195.452 (l)

Section 195.452(l) states that an operator must maintain certain records for review during an integrity management (IM) inspection. PHMSA is proposing to clarify this section by specifying that records for IM compliance must be maintained for the useful life of the pipe.

Section 199.111

PHMSA is removing § 199.111 because the requirements conflict with 49 CFR Part 40 and create compliance confusion. There is currently a conflict between § 199.111 and Part 40. In Part 40, it states that it is the medical review officer's (MRO) responsibility to select the laboratory to which the split sample should be sent. However, § 199.111 allows the specimen donor (i.e., the covered employee), and not the MRO, to select the testing laboratory to which his/her split specimen should be sent for corroborating evaluation.

Moreover, Part 40 requirements preclude testing the split specimen through the testing laboratory that evaluated the first specimen (i.e., Sample A). Conversely, § 199.111 allows utilizing the testing laboratory that tested the first specimen. This is not only contrary to Part 40 requirements, but also creates a compliance controversy for both the MRO and the operator as to which regulation to comply with.

PHMSA must enforce both Part 199 and Part 40 requirements and therefore PHMSA proposes to eliminate § 199.111 in its entirety.

Editorial Amendments

PHMSA is proposing to change the “Centralized IBR sections” from the current table format to a listing. In addition, PHMSA is adding standard abbreviations for each of the titles incorporated by reference. The purpose of this change is to conform with guidance provided by the Federal Register for “Centralized IBR” sections, to apply a consistent use of terms throughout the regulations (e.g., to differentiate between a standard (Std), a specification (Spec), recommended practice (RP), or publication (Pub)), and to add the dates of certain editions where more than one is referenced. This will ensure that operators apply the correct versions of documents incorporated by reference and make electronic database searches, (e.g., in the Electronic Code of Regulations (e-cfr) http://www.ecfr.gov/cgi-bin/text-idx?tpl=%2Findex.tpl) easier and more accurate. These proposed editorial changes include:

—Adding abbreviated titles to the list of standards to be incorporated in §§ 192.7, 193.2013, and 195.3.

—Revising current titles to abbreviated titles.

—Correcting the reference to the Gas Technology Institute (GTI) research document (formerly the Gas Research Institute (GRI)) document number from GRI-89/0242 to GTI-04/0049.

—Correcting the reference from the first edition to the third edition of API Standard 653, “Tank Inspection, Repair, Alteration, and Reconstruction.”

—Removing an incorrect reference to ASME Boiler & Pressure Code, Section VII, Division 2 in § 193.2321.

—Inserting the year of certain standards where more than one edition may be applied.

—Inserting the notation “Incorporated by Reference” in the regulation text, if not included previously.

VII. Regulatory Analyses and Notices

A. Summary/Legal Authority for This Rulemaking

This NPRM is published under the authority of the Federal pipeline safety law (49 U.S.C. 60101 et seq.). Section 60102 authorizes the Secretary of Transportation to issue regulations governing design, installation, inspection, emergency plans and procedures, testing, construction, extension, operation, replacement, and maintenance of pipeline facilities. Further, Section 60102(l) of the Federal pipeline safety law states that the Secretary shall, to the extent appropriate and practicable, update incorporated industry standards adopted as a part of the Federal pipeline safety regulations. If adopted as proposed, this NPRM would IBR two new editions (one partially incorporated) and 21 updated standards of those currently referenced standards (wholly or in part). In addition, if adopted as proposed, this NPRM would make miscellaneous and editorial changes to the pipeline safety regulations.

B. Executive Order 12866, Executive Order 13563, and DOT Regulatory Policies and Procedures

This NPRM is not considered a significant regulatory action under section 3(f) of Executive Order 12866 (58 FR 51735) and, therefore, was not subject to review by the Office of Management and Budget. This NPRM is also considered non-significant under the Regulatory Policies and Procedures of the Department of Transportation (44 FR 11034).

In accordance with the National Technology and Advancement Act of 1995 (“the Act”) and OMB Circular A-119, “Federal Participation in the Development and Use of Voluntary Consensus Standards and in Conformity Assessment Activities,” PHMSA periodically reviews and updates the standards incorporated by reference to include new editions. In this NPRM, if adopted as proposed, we would incorporate two new standards API RP 5LT; partially incorporate ASTM D2513-09a (except section 4.2 pertaining to rework materials); and update 21 of those currently referenced standards and specifications in 49 CFR Parts 192, 193, and 195. The majority of these standards are created by national voluntary consensus standards developing organizations that address pipeline design, construction, maintenance, inspection, and repair. Others are developed by organizations using a consensus setting process to develop guidance in the form of standards, publications, and recommended practices. The government decreases the burden on the regulated industry by adopting consensus standards that provide the most current industry practices and guidance developed together with industry experts. This practice is consistent with the National Technology and Advancement Act of 1995 and the OMB policy directives. This practice also avoids the possibility of burdening industry with potentially conflicting regulations and industry practices.

According to the annual reports submitted by pipeline operators to PHMSA, there are over 2,370 entities operating hazardous liquid, natural gas transmission, gathering, and distribution systems, and liquefied natural gas facilities as of December 31, 2011. The incorporation of these standards is not expected to have any additional cost of compliance to these entities, but is expected to encourage safer long-term growth for the pipeline industry by promoting efficiency and economic competition through harmonization of standards.

PHMSA anticipates the proposals contained in this rule will enhance safety and reduce the compliance burden on the regulated industry. Industry standards developed and adopted by consensus generally are accepted and followed by the pipeline industry, thus assuring that the industry is not forced to comply with a number of different standards to accomplish the same safety goal.

In addition to incorporating new and updating existing voluntary consensus standards, PHMSA is taking this opportunity to make non-substantive edits and to clarify regulatory language in certain provisions. Since these proposed editorial changes are regarded relatively minor, the NPRM would not require pipeline operators to undertake any significant new pipeline safety initiatives and would not have any cost implications, but would increase the clarity of the pipeline safety regulations, promoting improved compliance and safety of the nation's pipeline systems.

Executive Order 13563 is supplemental to and reaffirms the principles, structures, and definitions governing regulatory review that were established in Executive Order 12866 Regulatory Planning and Review of September 30, 1993. In addition, Executive Order 13563 specifically requires agencies to: (1) Involve the public in the regulatory process; (2) promote simplification and harmonization through interagency coordination; (3) identify and consider regulatory approaches that reduce burden and maintain flexibility; (4) ensure the objectivity of any scientific or technological information used to support regulatory action; and (5) consider how to best promote retrospective analysis to modify, streamline, expand, or repeal existing rules that are outmoded, ineffective, insufficient, or excessively burdensome.

In this NPRM, PHMSA is involving the public in the regulatory process in a variety of ways. Specifically, PHMSA is addressing issues and errors that were identified and tagged for future rulemaking consideration in letters received by the regulated community and through meetings and other correspondence with stakeholders. PHMSA is asking for public comments based on the proposals in this NPRM. Upon receipt of public comment and confirmation of the standards availability to the public free of charge on the Internet, PHMSA will discuss with the members of its two advisory committees and then address all substantive comments in the next rulemaking action under this docket.

The incorporation of the two new editions (one partially) and updates to 21 other standards promote simplification and harmonization through adoption of consensus standards developed by pipeline experts nationwide and internationally. For example, PHMSA is proposing to IBR a new standard, API Recommended Practice 5LT, “Recommended Practice for Truck Transportation of Line Pipe,” (First edition, March 1, 2012) to reduce the risk of a pipeline rupture from pipe that is inadequately loaded for transportation by truck. This standard will decrease the probability of fatigue cracking along the seam of the longitudinal weld during transit and thereby improving safety. This action also responds to an NTSB recommendation.

In § 192.283, PHMSA is proposing to IBR ASTM D2513-09a, “Standard Specification for Polyethylene (PE) Gas Pressure Pipe, Tubing, and Fitting,” for PE materials (except section 4.2) to ensure correct marking of (PE) materials. PHMSA is also seeking public comment and additional information on the issue of reworked material (section 4.2) prior to incorporating that section of the new standard.

These standards, if adopted as proposed, are expected to produce a safety benefit derived from new requirements to safely transport pipe by truck and by improved marking specifications of PE pipe.

There are minimal additional costs. The clarity will result in net benefits.

C. Executive Order 13132

This NPRM was analyzed in accordance with the principles and criteria contained in Executive Order 13132 (“Federalism”). This NPRM would not have a substantial direct effect on the States, the relationship between the national government and the States, or the distribution of power and responsibilities among the various levels of government. This NPRM would not impose substantial direct compliance costs on State and local governments nor will it preempt state law for intrastate pipelines. Therefore, the consultation and funding requirements of Executive Order 13132 do not apply.

D. Executive Order 13175

PHMSA has analyzed this NPRM according to Executive Order 13175 (“Consultation and Coordination with Indian Tribal Governments”). Because this NPRM would not significantly or uniquely affect the communities of the Indian tribal governments or impose substantial direct compliance costs, the funding and consultation requirements of Executive Order 13175 would not apply.

E. Regulatory Flexibility Act, Executive Order 13272 and DOT Procedures and Policies

The Regulatory Flexibility Act (5 U.S.C. 601 et seq.), requires an agency to review regulations to assess their impact on small entities unless the agency determines the rule is not expected to have a significant impact on a substantial number of small entities. This NPRM would ensure that pipeline operators are using the new or updated editions of technical standards incorporated by reference. In addition, this NPRM would improve the clarity of several requirements. There are over 2,300 operating entities submitting annual reports describing the physical and certain operating characteristics of hazardous liquid, natural gas transmission, gathering, and distribution systems, and liquefied natural gas facilities as of December 31, 2010. According to PHMSA data, Dun and Bradstreet identified about 600 active operating entities as a small business (i.e., about 25% of the active operating entities may be classified as a small business).

Codes and standards developed by technical committees are, for the most part, comprised of experts who represent the various facets of a given industry, such as manufacturers, installers, insurers, inspectors, end users, distributors, and regulatory agencies. Participants represent both large and small businesses and others. An example of the make-up of a typical standards committee may include representatives from large and small operating companies (engineers, researchers, or risk management officers), government (Federal/state), risk management consultants, insurance administrators; academics and individuals. Meetings are open to the public. The Committees involved in developing, revising and approving consensus standards by organizations such as the API or AGA include technical experts, operating companies, vendors, consultants, academia and regulators. An example of a small business may include technical experts from a publicly owned natural gas local distribution company.

The impact of this NPRM is not expected to be significant and the proposed changes are not expected to have any increase in compliance cost regardless of the size of the firm. The proposed changes are intended to update current editions of industry standards to allow for the use of newer or updated safety procedures to promote uniformity among industry practices. Changes in standards employing performance-based approaches have resulted in less costly changes to an organization's manufacturing processes.

Therefore, PHMSA concludes this NPRM would not have a significant economic impact on any small entity.

Consideration of alternative proposals for small businesses—The Regulatory Flexibility Act directs agencies to establish expectations and differing compliance standards for small businesses, where it is possible to do so and still meet the objectives of applicable regulatory statutes. In the case of hazardous liquid, natural gas and other types of materials transported by pipeline, it is not possible to establish exceptions or differing standards and still accomplish our safety objectives.

The impact of this NPRM will be minimal. The proposed changes are generally intended to provide industry guidance through adoption of newer editions of consensus standards and recommended practices.

Based on the facts available about the anticipated impact of this rulemaking, I certify, under Section 605 of the Regulatory Flexibility Act (5 U.S.C. 605) that this NPRM will not have a significant economic impact on a substantial number of small entities.

F. Paperwork Reduction Act

This NPRM does not impose any new information collection requirements.

G. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

H. Unfunded Mandates Reform Act of 1995

This NPRM would not impose unfunded mandates under the Unfunded Mandates Reform Act of 1995. It would not result in costs of $100 million (adjusted for inflation currently estimated to be $132 million) or more in any one year to either state, local, or tribal governments, in the aggregate, or to the private sector, and would be the least burdensome alternative that achieves the objective of the NPRM.

I. Privacy Act Statement

Anyone may search the electronic form of comments received in response to any of our dockets by the name of the individual submitting the comment (or signing the comment if submitted for an association, business, labor union, etc.). You may review DOT's complete Privacy Act Statement in the Federal Register published on April 11, 2000 (65 FR 19477) or you may visit http://docketsinfo.dot.gov/.

J. Environmental Assessment

The National Environmental Policy Act of 1969, 42 U.S.C. 4321-4375, requires Federal agencies to analyze proposed actions to determine whether the action will have a significant impact on the human environment. The Council on Environmental Quality (CEQ) regulations require Federal agencies to conduct an environmental review considering: (1) The need for the proposed action; (2) alternatives to the proposed action; (3) probable environmental impacts of the proposed action and alternatives; and (4) the agencies and persons consulted during the consideration process (40 CFR 1508.9(b)). In this NPRM, PHMSA proposes to IBR two new standards (one partially) and to incorporate 21 updated standards of those currently-referenced. If adopted as proposed, this NPRM would also make miscellaneous and editorial changes to the pipeline safety regulations.

Description of Action: The National Technology Transfer and Advancement Act of 1995, directs Federal Agencies to use voluntary consensus standards and design specifications developed by voluntary consensus standard bodies instead of government-developed voluntary technical standards, when applicable. There are currently 64 standards incorporated by reference in parts 192, 193, and 195 of the pipeline safety regulations.

PHMSA engineers and subject matter experts participate on approximately 25 standards development committees to keep current on committee actions. PHMSA will only propose to adopt standards into the Federal regulations that meet the agency's directive(s) to ensure the best interests of public and environmental safety are served.

Purpose and Need: Many of the industry standards currently incorporated by reference in the pipeline safety regulations have been revised and updated to incorporate new technology and methodology. The NPRM would consider allowing operators to use this new technology by incorporating new editions of the standards into the pipeline safety regulations.

PHMSA technical experts continually review the actions of the pipeline standards developing committees and study industry safety practices to ensure their endorsement of any new editions or revised standards incorporated into the Federal safety regulations will improve public safety, as well as, provide protections for the environment. If PHMSA does not amend the Federal safety standards to keep up with industry practices, it could potentially have an adverse effect on the transportation of energy resources.

Alternatives Considered: In developing the NPRM, we considered two alternatives:

Alternative (1): Take no action and continue to incorporate the existing standards currently referenced in the pipeline safety regulations.

Because our goal is to facilitate pipeline safety, we rejected the alternative to take no action.

Alternative (2): Go forward with the proposed amendments and incorporate updated editions of voluntary consensus standards to allow pipeline operators to use current technologies. This is the selected alternative.

Our goal is to incorporate by reference into the pipeline safety regulations all or parts of updated editions of voluntary consensus standards to allow pipeline operators to use current technology, new materials, and other industry and management practices. In addition, PHMSA's goal is to update and clarify certain provisions in the regulations. These proposed amendments would make the regulatory provisions more consistent with current technology and would therefore promote the safe transportation of hazardous liquids, natural and other gases, and liquefied natural gas by pipeline.

If these amendments are adopted as proposed, the pipeline safety regulations would not require pipeline operators to undertake any significant new pipeline safety initiatives. In fact, by updating several of the currently referenced standards, pipeline operators may find it easier to comply with certain provisions. For example, the GPTC, consisting of approximately 100 members with technical expertise in natural gas distribution, transmission, and gathering systems, petitioned PHMSA to adopt the 2009a version of ASTM D2513, “Standard Specification for Thermoplastic Gas Pressure Pipe, Tubing and Fittings.” ASTM D2513-09a covers polyethylene (PE), the most widely used piping material for gas distribution. This newer edition updates outdoor storage requirements for PE pipe and incorporates the new high performance PE pipe materials designation codes, with increased long-term performance requirements. PHMSA is proposing to partially incorporate this standard.

Environmental Consequences: The Nation's pipelines are located throughout the United States, onshore and offshore, and traverse a variety of environments—from highly populated urban sites to remote, unpopulated rural areas. The Federal pipeline regulatory system is a risk management system that is prevention oriented and focused on identifying a safety hazard and reducing the probability and quantity of a natural gas or hazardous liquid material release. Pipeline operators are required to develop and implement IM programs. The purpose of these programs is to enhance safety by identifying and reducing pipeline integrity risks.

Pipelines subject to this NPRM transport hazardous liquids and natural gas and therefore a spill or leak of the product could affect the physical environment as well as the health and safety of the public. The release of a hazardous liquid and natural gas can cause the loss of cultural and historical resources (e.g., properties listed on the National Register of Historic Places), biological and ecological resources (e.g., coastal zones, wetlands, plant and animal species and their habitat, forests, grasslands, offshore marine ecosystems), special ecological resources (e.g., threatened and endangered plant and animal species and their habitat, national and state parklands, biological reserves, wild and scenic rivers), and the contamination of air, water resources (e.g., oceans, streams, lakes) and soil that exist directly adjacent to and within the vicinity of pipelines. Incidents on pipelines can result in fires and explosions, resulting in damage to the local environment. Depending on the size of a spill or gas leak, and the nature of the failure zone, the potential environmental impacts could vary from property damage, environmental damage, injuries or, on rare occasions, fatalities.

Compliance with the pipeline safety regulations substantially reduces the possibility of an accidental release of materials. Updating industry standards incorporated in the pipeline safety regulations adopts the advantages of new technology and enhances safety and environmental protection.

Conclusion—Degree of Environmental Impact: PHMSA proposes to incorporate consensus standards that will allow the pipeline industry to use improved technologies, new materials, performance-based approaches, manufacturing processes or other practices to enhance public health, safety and welfare. The goal is to ensure hazardous liquids, natural and other gases, and liquefied natural gas transported by pipeline will arrive safely to its destination. Therefore, PHMSA has preliminarily determined that the selected alternative would not have a significant impact on the human environment. PHMSA welcomes comments on this initial determination.

K. Executive Order 13211

Transporting gas affects the nation's available energy supply. However, this NPRM would not be a significant energy action under Executive Order 13211. It also would not be a significant regulatory action under Executive Order 12866 and would not be likely to have a significant adverse effect on the supply, distribution, or use of energy. Further, the Administrator of the Office of Information and Regulatory Affairs would not be likely to identify this NPRM has a significant energy action.

List of Subjects

49 CFR Part 192

Incorporation by Reference, Natural Gas, Pipeline safety.

49 CFR Part 193

Incorporation by Reference, Liquefied Natural gas, Pipeline safety.

49 CFR Part 195

Anhydrous ammonia, Carbon Dioxide, Incorporation by Reference, Petroleum Pipeline safety.

49 CFR Part 199

Drug and Alcohol Testing.

In consideration of the foregoing, PHMSA proposes to amend 49 CFR Parts 192, 193, 195, and 199 as follows:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, 60116, 60118 and 60137; and 49 CFR 1.53.

2. Section 192.7 is revised to read as follows:

§ 192.7 What documents are incorporated by reference partly or wholly in this part?

(a) This part prescribes standards, or portions thereof, incorporated by reference. The material incorporated by reference is treated as if it were published in full in the Federal Register (5 U.S.C. 552(a)) and has the full force of law. The materials listed in this section have been approved for IBR by the Director of the Federal Register in accordance with 5 U.S.C. 552(a) and 1 CFR part 51. The material is incorporated as it existed on the date of the approval by the Federal Register and any changes thereafter will also be published in the Federal Register.

(1) Availability of standards incorporated by reference. All of the materials incorporated by reference are available for inspection from several sources, including the following:

(i) The Office of Pipeline Safety, Pipeline and Hazardous Materials Safety Administration, 1200 New Jersey Avenue SE., Washington, DC, 20590-0001. For information contact 1-202-366-202-4046 or go to: http://www.phmsa.dot.gov/pipeline/regs.

(ii) The National Archives and Records Administration (NARA), Office of the Federal Register (OFR), 800 North Capitol Street NW., Suite 700, Washington, DC 20001. For information on the availability of this material and how to make an appointment, contact NARA, by telephone 202-741-6030 or go to: http://www.archives.gov/federal-register/code-of-federal-regulations/ibr-locations.html.

(iii) The respective standards-developing organizations listed in this part.

(2) For information concerning standards available free of charge for visual inspection, please see the links on PHMSA's Web site at: http://www.phmsa.dot.gov/pipeline/regs.

(3) Standards incorporated by reference. The full titles of documents incorporated by reference, in whole or in part, are provided in this section. The numbers in parentheses indicate applicable editions. For each incorporated document, citations of all affected sections are provided. Earlier editions of documents listed in this section or editions of documents listed in previous editions of 49 CFR part 192 may be used for materials and components designed, manufactured, or installed in accordance with these earlier documents at the time they were listed. The user must refer to the appropriate previous edition of 49 CFR part 192 for a listing of the earlier listed editions or documents. The full titles of publications incorporated by reference wholly or partially in this part are as follows:

(b) American Petroleum Institute (API), 1220 L Street NW., Washington, DC 20005, phone: 202-289-2250, http://api.org/.

(1) API Recommended Practice 5L1, “Recommended Practice for Railroad Transportation of Line Pipe” (7th Edition, September 2009), (API RP 5L1), IBR approved for § 192.65(a).

(2) API Recommended Practice 5LT, “Recommended Practice for Truck Transportation of Line Pipe” (March 12, 2012), (API RP 5LT IBR approved for § 192.65(c).).

(3) API Recommended Practice 5LW, “Transportation of Line Pipe on Barges and Marine Vessels” (3rd edition, September 2009) (API RP 5LW). IBR approved for § 192.65(b).

(4) API Recommended Practice 80, “Guidelines for the Definition of Onshore Gas Gathering Lines” (1st edition, April 2000) (API RP 80), IBR approved for § 192.8(a).

(5) API Recommended Practice 1162, “Public Awareness Programs for Pipeline Operators” (1st edition, December 2003) (API RP 1162), IBR approved for § 192.616(a), (b), (c).

(6) API Recommended Practice 1165, “Recommended Practice for Pipeline SCADA Displays” (First edition (January 2007)) (API RP 1165), IBR approved for § 192.631(c).

(7) ANSI/API Specification 5L/ISO 3183, “Specification for Line Pipe” (45th edition, 12-1-2012) (ANSI/API Spec 5L), IBR approved for §§ 192.55(e); 192.112(a), (b), (d), (e); 192.113; and Item I, Appendix B to Part 192.

(8) ANSI/API Specification 6D, “Specification for Pipeline Valves” (23rd edition, April 2008, effective October 1, 2008) and errata 3 (Includes Errata 1, 2, 3, 4, 5, and 6 (2011) and Addenda 1 and 2 (2011)) (ANSI/API Spec 6D), IBR approved for § 192.145(a).

(9) API Standard 1104, “Welding of Pipelines and Related Facilities” (20th edition, October 2005, errata/addendum, (July 2007) and errata 2 (2008) (API Std 1104) IBR approved for §§ 192.225(a); 192.227(a); 192.229(c); 192.241(c); and Item II, Appendix B.

(c) ASME International (ASME), Three Park Avenue, New York, NY 10016-5990, 800-843-2763 (U.S/Canada), http://www.asme.org/.

(1) ASME/ANSI B16.1-2005, “Gray Iron Pipe Flanges and Flanged Fittings: (Classes 25, 125, and 250)” (August 31, 2006) (ASME/ANSI B16.1), IBR approved for § 192.147(c).

(2) ASME/ANSI B16.5-2003, “Pipe Flanges and Flanged Fittings” (October 2004) (ASME/ANSI B16.5), IBR approved for §§ 192.147(a) and 192.279.

(3) ASME/ANSI B31G-1991 (Reaffirmed; 2004), “Manual for Determining the Remaining Strength of Corroded Pipelines” (ASME/ANSI B31G), IBR approved for §§ 192.485(c) and 192.933(a).

(4) ASME/ANSI B31.8-2007, “Gas Transmission and Distribution Piping Systems” (November 30, 2007) (ASME/ANSI B31.8), IBR approved for §§ 192.112(b) and 192.619(a).

(5) ASME/ANSI B31.8S-2004, “Supplement to B31.8 on Managing System Integrity of Gas Pipelines” (ASME/ANSI B31.8S-2004), IBR approved for §§ 192.903(c); 192.907(b); 192.911(h), (k), (l), and (m); 192.913(a), (b), (c); 192.917(a), (b), (c), (d), (e); 192.921(a); 192.923(b); 192.925(b); 192.927(b), (c); 192.929(b); 192.933(c), (d); 192.935(a), (b); 192.937(c); 192.939(a); and 192.945(a).

(6) ASME Boiler & Pressure Vessel Code, Section I, “Rules for Construction of Power Boilers 2007” (2007 edition, July 1, 2007) (ASME BPVC, Section I), IBR approved for § 192.153(b).

(7) ASME Boiler & Pressure Vessel Code, Section VIII, Division 1 “Rules for Construction of Pressure Vessels” (2007 edition, July 1, 2007) (ASME BPVC, Section VIII, Division 1), IBR approved for §§ 192.153(a), (b), (d) and 192.165(b).

(8) ASME Boiler & Pressure Vessel Code, Section VIII, Division 2 “Alternate Rules, Rules for Construction of Pressure Vessels” (2007 edition, July 1, 2007) (ASME BPVC, Section VIII, Division 2), IBR approved for § 192.165(b).

(9) ASME Boiler & Pressure Vessel Code, Section IX: “Qualification Standard for Welding and Brazing Procedures, Welders, Brazers, and Welding and Brazing Operators” (2007 edition, July 1, 2007) (ASME BPVC, Section IX), IBR approved for §§ 192.225(a); 192.227(a); and Item II, Appendix B to Part 192.

(d) American Society for Testing and Materials (ASTM), 100 Barr Harbor Drive, PO Box C700, West Conshohocken, PA 19428-2959, phone: (610) 832-9585, http://www.astm.org/.

(1) ASTM A53/A53M-10, “Standard Specification for Pipe, Steel, Black and Hot-Dipped, Zinc-Coated, Welded and Seamless” (October 2, 2010) (ASTM A53/A53M), IBR approved for §§ 192.113; and Item II, Appendix B to Part 192.

(2) ASTM A106/A106M-10, “Standard Specification for Seamless Carbon Steel Pipe for High-Temperature Service” (April 1, 2010) (ASTM A106/A106M), IBR approved for §§ 192.113; and Item I, Appendix B to Part 192.

(3) ASTM A333/A333M-11, “Standard Specification for Seamless and Welded Steel Pipe for Low-Temperature Service” (April 01, 2011) (ASTM A333/A333M), IBR approved for §§ 192.113; and Item I, Appendix B to Part 192.

(4) ASTM A372/A372M-10 (reapproved 2008), “Standard Specification for Carbon and Alloy Steel Forgings for Thin-Walled Pressure Vessels” (October 1, 2010) (ASTM A372/A372M), IBR approved for § 192.177(b).

(5) ASTM A381-96 (reapproved 2005), “Standard Specification for Metal-Arc Welded Steel Pipe for Use with High-Pressure Transmission Systems” (October 1, 2005) (ASTM A381), IBR approved for §§ 192.113; and Item I, Appendix B to Part 192.

(6) ASTM A578/A578M-96 (re-approved 2001), “Standard Specification for Straight-Beam Ultrasonic Examination of Plain and Clad Steel Plates for Special Applications” (ASTM A578/A578M), IBR approved for § 192.112(c).

(7) ASTM A671/A671M-10, “Standard Specification for Electric-Fusion-Welded Steel Pipe for Atmospheric and Lower Temperatures” (April 1, 2010) (ASTM A671/A671M), IBR approved for §§ 192.113; and Item I, Appendix B to Part 192.

(8) ASTM A672-09, “Standard Specification for Electric-Fusion-Welded Steel Pipe for High-Pressure Service at Moderate Temperatures” (October 1, 2009). (ASTM A672), IBR approved for §§ 192.113 and Item I, Appendix B to Part 192.

(9) ASTM A691-09, “Standard Specification for Carbon and Alloy Steel Pipe, Electric-Fusion-Welded for High-Pressure Service at High Temperatures” (October 1, 2009) (ASTM A691), IBR approved for §§ 192.113 and Item I, Appendix B to Part 192.

(10) ASTM D638-03, “Standard Test Method for Tensile Properties of Plastics” (except for conditioning) (ASTM D638), IBR approved for § 192.283(a) and (b).

(11) ASTM D2513-87, “Standard Specification for Thermoplastic Gas Pressure Pipe, Tubing, and Fittings,” (for non-polyethylene plastic materials only) (ASTM D2513-87), IBR approved for § 192.63(a).

(12) ASTM D2513-99, “Standard Specification for Thermoplastic Gas Pressure Pipe, Tubing, and Fittings” (for non-polyethylene plastic materials only) (except section 4.2 pertaining to rework) (ASTM D 2513-99), IBR approved for §§ 192.59(d); 192.191(b); 192.281(b); 192.283(a) and Item 1, Appendix B to Part 192.

(13) ASTM D2513-09a, “Standard Specification for Polyethylene (PE) Gas Pressure Pipe, Tubing, and Fittings” (except section 4.2 pertaining to rework.) (ASTM D2513-09a), IBR approved for §§ 192.59(d); 192.63(a); 192.123(e), 192.191(b); 192.283(a); Item 1, Appendix B to Part 192.

(14) ASTM D2517-00, “Standard Specification for Reinforced Epoxy Resin Gas Pressure Pipe and Fittings” (ASTM D 2517), IBR approved for §§ 192.191(a); 192.281(d); 192.283(a) and Item I, Appendix B to Part 192.

(15) ASTM F1055-1998, “Standard Specification for Electrofusion Type Polyethylene Fittings for Outside Diameter Controller Polyethylene Pipe and Tubing” (ASTM F1055), IBR approved for § 192.283(a).

(e) Gas Technology Institute (GTI), formerly the Gas Research Institute (GRI)), 1700 S. Mount Prospect Road, Des Plaines, IL 60018, phone: 847-768-0500, www.gastechnology.org.

(1) GRI 02/0057 (2002) “Internal Corrosion Direct Assessment of Gas Transmission Pipelines Methodology” (GRI 02/0057), IBR approved for § 192.927(c).

(2) [Reserved]

(f) Manufacturers Standardization Society of the Valve and Fittings Industry, Inc. (MSS), 127 Park St. NE., Vienna, VA, 22180-4602, phone: 703-281-6613, http://www.mss-hq.org/.

(1) MSS SP-44-2010, Standard Practice, “Steel Pipeline Flanges,” (2010 edition) (MSS SP-44), IBR approved for § 192.147(a).

(2) [Reserved]

(g) NACE International (NACE), 1440 South Creek Drive, Houston, TX 77084-4906, phone: 281-228-6223 or 800-797-6223, http://www.nace.org/Publications/.

(1) NACE SP0502-2010, Standard Practice, “Pipeline External Corrosion Direct Assessment Methodology” (June 24, 2010) (NACE SP0502), IBR approved for §§ 192.923(b); 192.925(b); 192.931(d); 192.935(b) and 192.939(a).

(2) [Reserved]

(h) National Fire Protection Association (NFPA), 1 Batterymarch Park, Quincy, Massachusetts, 02169-7471, phone: 1 617 984-7275, http://www.nfpa.org/.

(1) NFPA-30 (Fire) (2012), “Flammable and Combustible Liquids Code,” includes Errata 1, Errata 2 (2012 edition, June 20, 2011) (NFPA-30), IBR approved for § 192.735(b).

(2) NFPA-58 (2004), “Liquefied Petroleum Gas Code (LP-Gas Code)” (NFPA-58), IBR approved for § 192.11(a), (b), and (c).

(3) NFPA-59 (2004), “Utility LP-Gas Plant Code” (NFPA-59), IBR approved for § 192.11(a), (b), and (c).

(4) NFPA-70 (2011), “National Electrical Code,” includes Errata 1, Errata 2 (2011 edition, approved September 24, 2010) (NFPA-70), IBR approved for §§ 192.163(c) and 192.189(c).

(i) Pipeline Research Council International, Inc. (PRCI), c/o Technical Toolboxes, 3801 Kirby Drive, Suite 520, P.O. Box 980550, Houston, TX 77098-0550, phone: 713-630-0505, toll free: 866-866-6766, http://www.ttoolboxes.com/. (Contract number PR-3-805.)

(1) Pipeline Research Committee Project, PR-3-805, “A Modified Criterion for Evaluating the Remaining Strength of Corroded Pipe,” (December 22, 1989). The R-STRENG program may be used for calculating remaining strength. (PRCI PR-3-805 (R-STRENG)), IBR approved for §§ 192.485(c), 192.933(a) and 192.933(d).

(2) [Reserved]

(j) Plastics Pipe Institute, Inc. (PPI), 105 Decker Court, Suite 825 Irving TX, 75062, phone: 469-499-1044, http://www.plasticpipe.org/.

(1) PPI TR-3/2008 HDB/HDS/PDB/SDB/MRS Policies (2008), “Policies and Procedures for Developing Hydrostatic Design Basis (HDB), Pressure Design Basis (PDB), Strength Design Basis (SDB), and Minimum Required Strength (MRS) Ratings for Thermoplastic Piping Materials or Pipe.” (May 2008), IBR approved for § 192.121.

(2) [Reserved]

§ 192.11 [Amended]

3. In § 192.11, amend paragraphs (a) and (c), by removing the term “ANSI/NFPA 58/59” and, adding in its place, the terms “NFPA 58 and “NFPA 59 (incorporated by reference, see § 192.7).”

§ 192.55 [Amended]

4. In Section 192.55, paragraph (e) is amended by removing the term “API Specification 5L” and, adding in its place, the term “API Spec 5L “(incorporated by reference, see § 192.7).”

5. In § 192.59, paragraph (d) is added to read as follows:

§ 192.59 Plastic Pipe.

* * * * *

(d) Rework and/or regrind material is not allowed in plastic pipe used under this part.

§ 192.65 [Amended]

6. In § 192.65:

a. In paragraph (a)(1), remove the term “API Recommended Practice 5L1” and, add in its place the term, “API RP 5L1.”

b. In paragraph (b), remove the term “API Recommended Practice 5LW” and, add in its place the term, “API RP 5LW.”

c. Add a new paragraph (c) to read as follows:

* * * * *

§ 192.65 Transportation of pipe

* * * * *

(c) Truck. In a pipeline to be operated at a hoop stress of 20 percent or more of SMYS, an operator may not use pipe having an outer diameter to wall thickness ratio of 70 to 1, or more, that is transported by truck unless the transportation is performed in accordance with API RP 5LT (incorporated by reference, see § 192.7).

§ 192.112 [Amended]

7. Amend § 192.112 paragraphs (a)(4), (b)(1)(i), (b)(1)(iii), (d)(1) and (e)(1), by removing the term, “API Specification 5L” and, add in its place, the term “API Spec 5L.”

8. Amend § 192.112 paragraph (c)(2)(i), by removing the term, “API 5L” and, add in its place the term “API Spec 5L.”

§ 192.113 [Amended]

9. Amend § 192.113, Table, by removing the term, “API 5L” and, add in its place the term “API Spec 5L.”

§ 192.123 [Amended]

10. Amend § 192.123 paragraph (e)(2) as follows:

a. In paragraph (e)(2), remove the terms “PE2406 or a PE3408” and, add in their place, “polyethylene (PE).”

b. In paragraph (e)(2), remove the term “ASTM D2513-99” and, add in its place the term “ASTM D 2513.”

§ 192.145 [Amended]

11. Amend § 192.145 paragraph (a), by removing the term “API 6D” and, adding in its place the term, “ANSI/API Spec 6D.”

§ 192.147 [Amended]

12. Amend § 192.147 paragraphs (a) and (c) as follows:

a. In paragraph (a), remove the terms “ASME/ANSI B 16.5, MSS SP-44” and, add in their place the terms, “ASME/ANSI B 16.5 (incorporated by reference, see § 192.7)” and “MSS SP-44 (incorporated by reference, see § 192.7).”

b. In paragraph (c), remove the term “ASME/ANSI B16.1” and, add in its place the term, “ASME/ANSI B16.1 (incorporated by reference, see § 192.7).”

13. In § 192.153, revise paragraphs (a), (b), and (d) to read as follows:

§ 192.153 Components fabricated by welding.

(a) Except for branch connections and assemblies of standard pipe and fittings joined by circumferential welds, the design pressure of each component fabricated by welding, whose strength cannot be determined, must be established in accordance with paragraph UG-101 of the ASME Boiler and Pressure Vessel Code (BPVC) (Section VIII, Division 1) (incorporated by reference, see § 192.7).

(b) Each prefabricated unit that uses plate and longitudinal seams must be designed, constructed, and tested in accordance with section 1 of the ASME BPVC (Section VIII, Division 1 or Section VIII, Division 2) (incorporated by reference, see § 192.7), except for the following:

* * * * *

(d) Except for flat closures designed in accordance with the ASME BPVC (Section VIII, Division 1 or 2) flat closures and fish tails may not be used on pipe that either operates at 100 p.s.i. (689 kPa) gage or more, or is more than 3 inches (76 millimeters) nominal diameter.

§ 192.163 [Amended]

14. Amend § 192.163, paragraph (e), by removing the term “National Electrical Code, ANSI/NFPA 70” and adding, in its place, “NFPA-70.”

§ 192.165 [Amended]

15. Amend § 192.165, paragraph (b)(3), by removing the term “ASME Boiler and Pressure Vessel Code” and adding, in its place the term “ASME Boiler and Pressure Vessel Code (BPVC) (incorporated by reference, see § 192.7).”

§ 192.177 [Amended]

16. Amend § 192.177 paragraph (b)(1), by removing the term “ASTM A372/372” and adding, in its place the term “ASTM A372/372M (incorporated by reference, see § 192.7).”

§ 192.189 [Amended]

17. Amend § 192.189 paragraph (c), by removing the reference “ANSI/NFPA 70” and adding, in its place the abbreviation “NFPA-70” and adding, the term “(incorporated by reference, see § 192.7).”

§ 192.225 [Amended]

18. Amend § 192.225 paragraph (a), as follows:

a. Remove the term “API 1104” and add, in its place, the term “API Std 1104.”

b. Remove the term “ASME Boiler and Pressure Vessel Code, “Welding and Brazing Qualifications” and add, in its place, the term “ASME Boiler and Pressure Vessel Code (BPVC).”

§ 192.227 [Amended]

19. In § 192.227, paragraph (a) is amended as follows:

a. Remove the term “API 1104” and add, in its place, the term “API Std 1104.”

b. Remove the term “ASME Boiler and Pressure Vessel Code” and add, in its place, the term “ASME Boiler and Pressure Vessel Code (BPVC).”

§ 192.229 [Amended]

20. Amend § 192.229 paragraph (c)(1), by removing the term “API Standard 1104” and adding, in its place, the term “API Std 1104.”

§ 192.241 [Amended]

21. Amend § 192.241 paragraph (c), by removing the terms “API Standard 1104” and “API 1104” and adding, in their place, the term “API Std 1104.”

§ 192.281 [Amended]

22. Amend § 192.281 paragraph (d)(1), by removing the term “ASTM Designation D2517” and adding, in its place, the term “ASTM D 2517 (incorporated by reference, see § 192.7).”

§ 192.283 [Amended]

23. Amend § 192.283 as follows:

a. Revise paragraph (a)(1)(i) to read as set forth below.

b. Amend § 192.283 paragraph (a)(1)(iii), by removing the term “ASTM Designation F1055” and adding, in its place, the term “ASTM F1055 (incorporated by reference, see § 192.7).”

§ 192.283 Plastic pipe: Qualifying joining procedures.

(a) * * *

(1) * * *

(i) In the case of thermoplastic pipe, paragraph 6.6 (Sustained Pressure Test) or paragraph 6.7 (Minimum Hydrostatic Burst Test) of ASTM D2513 (except section 4.2 pertaining to rework material) (incorporated by reference, see § 192.7).

* * * * *

§ 192.485 [Amended]

24. Amend § 192.485, paragraph (c) as follows:

a. Remove the term “ASME/ANSI B 31G” and add, in its place, the term “ASME/ANSI B31G (incorporated by reference, see § 192.7).”

b. Remove the term, “AGA Pipeline Research Committee Project PR 3-805 (with RSTRENG disk)” and add, in its place, the term “PRCI PR 3-805 (R-STRENG) (incorporated by reference, see § 192.7).”

§ 192.735 [Amended]

25. Amend § 192.735 paragraph (b) by removing the term, “National Fire Protection Association Standard No. 30” and adding, in its place, the term “NFPA-30 (incorporated by reference, see § 192.7).”

§ 192.903 [Amended]

26. Amend § 192.903, in the Note, by removing the term “ASME/ANSI B31.8S-2001 (Supplement to ASME B31.8; incorporated by reference, see § 192.7)” and adding, in its place, the term “ASME/ANSI B31.8S (incorporated by reference, see § 192.7).”

27. In § 192.923, paragraphs (a) and (b) are revised to read as follows:

§ 192.923 How is direct assessment used and for what threats?

(a) General. An operator may use direct assessment either as a primary assessment method or as a supplement to the other assessment methods allowed under this subpart. An operator may only use direct assessment as the primary assessment method to address the identified threats of external corrosion (EC), internal corrosion (IC), and stress corrosion cracking (SCC).

(b) Primary method. An operator using direct assessment as a primary assessment method must have a plan that complies with the requirements in—

(1) ASME/ANSI B31.8S (incorporated by reference, see § 192.7) section 6.4, NACE SP0502 (incorporated by reference, see § 192.7), and § 192.925 if addressing external corrosion (EC).

(2) ASME/ANSI B31.8S (incorporated by reference, see § 192.7), section 6.4, appendix B2, and§ 192.927 if addressing internal corrosion (IC).

(3) ASME/ANSI B31.8S, appendix A3, and § 192.929 if addressing stress corrosion cracking (SCC).

* * * * *

28. In § 192.933, revise paragraphs (a)(1), and (d)(1)(i) to read as follows:

§ 192.933 What actions must be taken to address integrity issues?

(a) * * *

(1) Temporary pressure reduction. If an operator is unable to respond within the time limits for certain conditions specified in this section, the operator must temporarily reduce the operating pressure of the pipeline or take other action that ensures the safety of the covered segment. An operator must determine any temporary reduction in operating pressure required by this section using ASME/ANSI B31G (incorporated by reference, see § 192.7) or Pipeline Research Council, International, PR-3-805 (R-STRENG) (incorporated by reference, see § 192.7) or reduce the operating pressure to a level not exceeding 80 percent of the level at the time the condition was discovered. An operator must notify PHMSA in accordance with § 192.949 if it cannot meet the schedule for evaluation and remediation required under paragraph (c) of this section and cannot provide safety through temporary reduction in operating pressure or other action. An operator must also notify a state pipeline safety authority when either a covered segment is located in a state where PHMSA has an interstate agent agreement, or an intrastate covered segment is regulated by that state.

* * * * *

(d) * * *

(1) * * *

(i) A calculation of the remaining strength of the pipe shows a predicted failure pressure less than or equal to 1.1 times the maximum allowable operating pressure at the location of the anomaly. Suitable remaining strength calculation methods include, ASME/ANSI B31G (incorporated by reference, see § 192.7); PRCI PR-3-805 (R-STRENG) (incorporated by reference, see § 192.7); or an alternative equivalent method of remaining strength calculation.

* * * * *

§ 192.939 [Amended]

29. Amend § 192.939 paragraph (a)(1)(ii), by removing the term “ASME B31.8S” and adding, in its place the term, “ASME B31.8S (incorporated by reference, see § 192.7).”

30. Amend Appendix B to Part 192—Qualification of Pipe parts (I) and (II) as follows:

a. Revise Part I of Appendix B to Part 192 to read as set forth below.

b. Amend the second paragraph of Appendix B to Part 192, Part II, A, by removing the term “ASTM A53” and adding, in its place the term, “ASTM A53/A53M-10.”

Appendix B to Part 192—Qualification of Pipe

I. Listed Pipe Specifications

ANSI/API Specification 5L/ISO 3183—Steel pipe, “Specification for Line Pipe” (incorporated by reference, see § 192.7).

ASTM A53/A53M—Steel pipe, “Standard Specification for Pipe, Steel Black and Hot-Dipped, Zinc-Coated, Welded and Seamless” (incorporated by reference, see § 192.7).

ASTM A106/A106M—Steel pipe, “Standard Specification for Seamless Carbon Steel Pipe for High Temperature Service” (incorporated by reference, see § 192.7).

ASTM A333/A333M—Steel pipe, “Standard Specification for Seamless and Welded Steel Pipe for Low Temperature Service” (incorporated by reference, see § 192.7).

ASTM A381—Steel pipe, “Standard Specification for Metal-Arc-Welded Steel Pipe for Use with High-Pressure Transmission Systems” (incorporated by reference, see § 192.7).

ASTM A671/A671M—Steel pipe, “Standard Specification for Electric-Fusion-Welded Pipe for Atmospheric and Lower Temperatures” (incorporated by reference, see § 192.7).

ASTM A672—Steel pipe, “Standard Specification for Electric-Fusion-Welded Steel Pipe for High-Pressure Service at Moderate Temperatures” (incorporated by reference, see § 192.7).

ASTM A691—Steel pipe, “Standard Specification for Carbon and Alloy Steel Pipe, Electric-Fusion-Welded for High Pressure Service at High Temperatures” (incorporated by reference, see § 192.7).

ASTM D2513-87—Thermoplastic pipe and tubing, “Standard Specification for Thermoplastic Gas Pressure Pipe, Tubing, and Fittings” (incorporated by reference, see § 192.7).

ASTM D2513-99—Non-polyethylene thermoplastic pipe and tubing, “Standard Specification for Thermoplastic Gas Pressure Pipe, Tubing, and Fittings” (except section 4.2 pertaining to rework material), (incorporated by reference, see § 192.7).

ASTM D2513-09a—Polyethylene thermoplastic pipe and tubing, “Standard Specification for Polyethylene (PE) Gas Pressure Pipe, Tubing, and Fittings” (except section 4.2 pertaining to rework material) (incorporated by reference, see § 192.7).

ASTM D2517—Thermosetting plastic pipe and tubing, “Standard Specification for Reinforced Epoxy Resin Gas Pressure Pipe and Fittings” (incorporated by reference, see § 192.7).

* * * * *

PART 193—LIQUEFIED NATURAL GAS FACILITIES: FEDERAL SAFETY STANDARDS

31. The authority citation for part 193 continues to read as follows:

Authority: 49 U.S.C. 5103, 60102, 60103, 60104, 60108, 60109, 60110, 60113, 60118; and 49 CFR 1.53.

§§ 193.2019, 193.2051, 193.2301, 193.2303, 193.2401, 193.2521, 193.2639, and 193.2801 [Amended]

32. In 49 CFR Part 193, remove the term “NFPA 59A” and add, in its place “NFPA-59A (2001),” everywhere it appears in the following sections:

a. Section 193.2019 (a);

b. Section 193.2051;

c. Section 193.2057, introductory text;

f. Section 193.2301, introductory text;

g. Section 193.2303;

h. Section 193.2401;

i. Section 193.2521;

j. Section 193.2639 paragraph (a); and

k. Section 193.2801.

33. Section 193.2013 is revised to read as follows:

§ 193.2013 Incorporation by Reference.

(a) This part prescribes standards, or portions thereof, incorporated by reference (IBR). The material incorporated by reference is treated as if it were published in full in the Federal Register (5 U.S.C. 552(a)) and has the full force of law. The materials listed in this section have been approved for IBR by the Director of the Federal Register in accordance with 5 U.S.C. 552(a) and 1 CFR part 51. The material is incorporated as it existed on the date of the approval by the Federal Register and any changes thereafter will also be published in the Federal Register.

(1) Availability of standards incorporated by reference. All of the materials incorporated by reference are available for inspection from several sources, including the following:

(i) The Office of Pipeline Safety, Pipeline and Hazardous Materials Safety Administration, 1200 New Jersey Avenue SE., Washington, DC 20590-0001. For information contact 1-202-366-202-4046 or go to: http://www.phmsa.dot.gov/pipeline/regs.

(ii) (A) The National Archives and Records Administration (NARA), Office of the Federal Register (OFR), 800 North Capitol Street NW., Suite 700, Washington, DC 20001.

(B) For information on the availability of this material and how to make an appointment, contact NARA, by telephone 202-741-6030 or go to: http://www.archives.gov/federal-register/code-of-federal-regulations/ibr-locations.html.

(iii) The respective standards-developing organizations listed in this section.

(2) For information concerning standards available free of charge for visual inspection, please see the links on PHMSA's Web site at: http://www.phmsa.dot.gov/pipeline/regs.

(3) Standards incorporated by reference. The full titles of documents incorporated by reference, in whole or in part, are provided herein. The numbers in parentheses indicate applicable editions. For each incorporated document, citations of all affected sections are provided. Earlier editions of currently listed documents or editions of documents listed in previous editions of 49 CFR part 193 may be used for materials and components designed, manufactured, or installed in accordance with these earlier documents at the time they were listed. The user must refer to the appropriate previous edition of 49 CFR part 193 for a listing of the earlier listed editions or documents. The full titles of publications incorporated by reference wholly or partially in this part are as follows:

(b) American Gas Association (AGA), 400 North Capitol Street NW., Washington, DC 20001, phone: 1-202-824-7000, http://www.aga.org/.

(1) “Purging Principles and Practices” (3rd edition, 2001), IBR approved for §§ 193.2513 (b) and (c); 193.2517 and 193.2615 (a).

(c) American Petroleum Institute (API), 1220 L Street NW., Washington, DC 20005, phone: 202-289-2250, http://api.org/.

(1) API Standard 620 “Design and Construction of Large, Welded, Low-Pressure Storage Tanks” (11th edition February 2008, addendum 1, March 2009), and addendum 2 (2010) (API Std 620), IBR approved for §§ 193.2101(b) and 193.2321 (b).

(2) [Reserved]

(d) American Society of Civil Engineers (ASCE), 1801 Alexander Bell Drive, Reston, VA 20191, (800) 548-2723, (703) 295-6300 (International), http://www.asce.org.

(1) ASCE/SEI 7-05 “Minimum Design Loads for Buildings and Other Structures” (2005 edition, includes supplement No. 1 and Errata) (ASCE/SEI 7-05), IBR approved for § 193.2067 (b).

(2) [Reserved]

(e) ASME International (ASME), Three Park Avenue, New York, NY 10016-5990, 800-843-2763 (U.S./Canada), http://www.asme.org/.

(1) ASME Boiler & Pressure Vessel Code, Section VIII, Division 1 “Rules for Construction of Pressure Vessels” (2007 edition, July 1, 2007) (ASME BPVC, Section VIII, Division 1), IBR approved for § 193.2321 (a).

(2) [Reserved]

(f) Gas Technology Institute (GTI), formerly the Gas Research Institute (GRI)), 1700 S. Mount Prospect Road, Des Plaines, IL 60018, phone: 847-768-0500, www.gastechnology.org.

(1) GRI-96/0396.5, “Evaluation of Mitigation Methods for Accidental LNG Releases, Volume 5: Using FEM3A for LNG Accident Consequence Analyses” (April 1997) (GRI-96/0396.5), IBR approved for § 193.2059 (a).

(2) GTI-04/0032 LNGFIRE3: A Thermal Radiation Model for LNG Fires (March 2004) (GTI-04/0032 LNGFIRE3), IBR approved for § 193.2057 (a).

(3) GTI-04/0049 (April 2004) “LNG Vapor Dispersion Prediction with the DEGADIS 2.1: Dense Gas Dispersion Model for LNG Vapor Dispersion” (GTI-04/0049), IBR approved for § 193.2059 (a).

(g) National Fire Protection Association (NFPA), 1 Batterymarch Park, Quincy, Massachusetts d02169-7471, phone: 1 617 984-7275, http://www.nfpa.org/.

(1) NFPA 59A, (2001) “Standard for the Production, Storage, and Handling of Liquefied Natural Gas (LNG)” (NFPA-59A-2001), IBR approved for §§ 193.2019; 193.2051; 193.2057; 193.2059; 193.2101 (a); 193.2301; 193.2303; 193.2401; 193.2521; 193.2639 and 193.2801.

(2) NFPA 59A, (2006) “Standard for the Production, Storage, and Handling of Liquefied Natural Gas (LNG)” (2006 edition, Approved August 18, 2005) (NFPA-59A-2006), IBR approved for §§ 193.2101 (b) and 193.2321 (b).

§ 193.2059 [Amended]

34. Amend § 193.2059 as follows:

a. Amend the introductory text, by removing the term “NFPA 59A” and adding, in its place, the term “NFPA-59A-2001.”

b. Amend paragraph (a) by removing the words, “Gas Research Institute report GRI-89/0242 (incorporated by reference, see § 193.2013), “LNG Vapor Dispersion Prediction with the DEGADIS Dense Gas Dispersion Model” and adding, in its place, “GTI-04/0049, “LNG Vapor Dispersion Prediction with the DEGADIS 2.1 Dense Gas Dispersion Model” (incorporated by reference, see 193.2013).”

c. Amend paragraph (c), by removing the term “NFPA 59A” and adding, in its place, the term, “NFPA-59A-2001.”

§ 193.2067 [Amended]

35. Amend § 193.2067 paragraph (b)(1), by removing the term “ASCE/SEI 7-05” and adding, in its place the term, “ASCE/SEI 7.”

36. In § 193.2321, revise paragraphs (a), (b)(1), and (b)(2) to read as follows:

§ 193.2321 Nondestructive tests.

(a) The butt welds in metal shells of storage tanks with internal design pressure above 15 psig must be nondestructively examined in accordance with the ASME Boiler and Pressure Vessel Code (BPVC) (Section VIII, Division 1) (incorporated by reference, see § 193.2012), except that 100 percent of welds that are both longitudinal (or meridional) and circumferential (or latitudinal) of hydraulic load bearing shells with curved surfaces that are subject to cryogenic temperatures must be nondestructively examined in accordance with the ASME BPVC (Section VIII, Division 1).

(b) * * *

(1) Section 7.3.1.2 of NFPA-59A (2006), (incorporated by reference, see § 193.2012);

(2) Appendices Q and C of API Std 620, (incorporated by reference, see § 193.2012);

* * * * *

§ 193.2513 [Amended]

37. Amend § 193.2513, paragraphs (b)(1) and (c)(5), by removing the term “AGA, “Purging Principles and Practice” and adding, in its place, “AGA, “Purging Principles and Practices” (incorporated by reference, see § 193.2012).”

§ 193.2517 [Amended]

38. Amend § 193.2517, by removing the words “AGA, “Purging Principles and Practice” and adding, in its place, “AGA, “Purging Principles and Practices” (incorporated by reference, see § 193.2012).”

PART 195—TRANSPORTATION OF HAZARDOUS LIQUIDS BY PIPELINE

39. The authority citation for part 195 continues to read as follows:

Authority: 49 U.S.C. 5103, 60102, 60104, 60108, 60109, 60116, 60118 and 60137; and 49 CFR 1.53.

§§ 195.5 and 193.406 [Amended]

40. Amend 49 CFR part 195, by removing the term “ASME B31.8” and adding, in its place, the term “ASME/ANSI B31.8 (incorporated by reference, see § 195.3),” in the following sections.

a. Section 195.5 paragraph (a)(1)(i);

b. Section 195.406 paragraph (a)(1)(i).

41. Section 195.3 is revised to read as follows:

§ 195.3 Incorporation by Reference.

(a) This part prescribes standards, or portions thereof, incorporated by reference (IBR). The material incorporated by reference is treated as if it were published in full in the Federal Register (5 U.S.C. 552(a)) and has the full force of law. The materials listed in this section have been approved for IBR by the Director of the Federal Register in accordance with 5 U.S.C. 552(a) and 1 CFR part 51. The material is incorporated as it existed on the date of the approval by the Federal Register and any changes thereafter will also be published in the Federal Register.

(1) Availability of standards incorporated by reference. All of the materials incorporated by reference are available for inspection from several sources, including the following:

(i) The Office of Pipeline Safety, Pipeline and Hazardous Materials Safety Administration, 1200 New Jersey Avenue SE., Washington, DC, 20590-0001. For information contact 1-202-366-202-4046 or go to: http://www.phmsa.dot.gov/pipeline/regs.

(ii) (A) The National Archives and Records Administration (NARA), Office of the Federal Register (OFR), 800 North Capitol Street NW., Suite 700, Washington, DC 20001.

(B) For information on the availability of this material and how to make an appointment, contact NARA, by telephone 202-741-6030 or go to: http://www.archives.gov/federal-register/code-of-federal-regulations/ibr-locations.html.

(iii) The standards-developing organization listed in this section.

(2) For information concerning standards available free of charge for visual inspection, please see the links on PHMSA's Web site at: http://www.phmsa.dot.gov/pipeline/regs.

(3) Standards incorporated by reference. The full titles of documents incorporated by reference, in whole or in part, are provided herein. The numbers in parentheses indicate applicable editions. For each incorporated document, citations of all affected sections are provided. Earlier editions of currently listed documents or editions of documents listed in previous editions of 49 CFR part 195 may be used for materials and components designed, manufactured, or installed in accordance with these earlier documents at the time they were listed. The user must refer to the appropriate previous edition of 49 CFR part 195 for a listing of the earlier listed editions or documents. The full titles of publications incorporated by reference wholly or partially in this part are as follows:

(b) American Petroleum Institute (API), 1220 L Street NW., Washington, DC 20005, phone: 202-289-2250, http://api.org/.

(1) API Publication 2026, “Safe Access/Egress Involving Floating Roofs of Storage Tanks in Petroleum Service” (2nd edition, April 1998, reaffirmed June 2006) (API Pub 2026), IBR approved for § 195.405 (b).

(2) API Recommended Practice 5L1 “Recommended Practice for Railroad Transportation of Line Pipe” (7th Edition, September 2009) (API RP 5L1), IBR approved for § 195.207 (a).

(3) API Recommended Practice 5LT, “Recommended Practice for Truck Transportation of Line Pipe” (March 12, 2012) (API RP 5LT), IBR approved for § 195.207 (c).

(4) API Recommended Practice 5LW, “Transportation of Line Pipe on Barges and Marine Vessels” (3rd edition, September 2009) (API RP 5LW), IBR approved for § 195.207 (b).

(5) ANSI/API Recommended Practice 651, “Cathodic Protection of Aboveground Petroleum Storage Tanks” (3rd edition, January 2007) (ANSI/API RP 651), IBR approved for §§ 195.565 and 195.573 (d).

(6) ANSI/API Recommended Practice 652, “Linings of Aboveground Petroleum Storage Tank Bottoms” (3rd edition, October 2005) (API RP 652), IBR approved for § 195.579 (d).

(7) API Recommended Practice 1130, “Computational Pipeline Monitoring for Liquids: Pipeline Segment” (1st edition, September 2007) (API RP 1130), IBR approved for §§ 195.134 and 195.444.

(8) API Recommended Practice 1162, “Public Awareness Programs for Pipeline Operators” (1st edition, December 2003) (API RP 1162), IBR approved for § 195.440 (a), (b) and (c).

(9) API Recommended Practice 1165 “Recommended Practice for Pipeline SCADA Displays” (First edition (January 2007)) (API RP 1165), IBR approved for § 195.446 (c).

(10) API Recommended Practice 1168 “Pipeline Control Room Management” First Edition (September 2008) (API RP 1168), IBR approved for § 195.446 (c) and (f).

(11) API Recommended Practice 2003, “Protection against Ignitions Arising out of Static, Lightning, and Stray Currents” (7th edition, January 2008) (API RP 2003), IBR approved for § 195.405.

(12) API Recommended Practice 2350, “Overfill Protection for Storage Tanks in Petroleum Facilities'” (3rd edition, January 2005) (API RP 2350), IBR approved for § 195.428 (c).

(13) ANSI/API Specification 5L/ISO 3183 “Specification for Line Pipe” ANSI/API Specification 5L/ISO 3183 “Specification for Line Pipe” (45th edition, 12-1-2012) (ANSI/API Spec 5L), IBR approved for § 195.106.

(14) ANSI/API Specification 6D, “Specification for Pipeline Valves” (23rd edition, April 2008, effective October 1, 2008) and errata 3 (Includes Errata 1, 2, 3, 4, 5, and 6 (2011) and Addenda 1 and 2 (2011)) (ANSI/API Spec 6D), IBR approved for § 195.116.

(15) API Specification 12F, “Specification for Shop Welded Tanks for Storage of Production Liquids” (12th edition, October 2008, including errata 2008) (API Spec 12F), IBR approved for §§ 195.132; 195.205; 195.264; 195.307; 195.565; and 195.579.

(16) API Standard 510, “Pressure Vessel Inspection Code: In-Service Inspection, Rating, Repair, and Alteration” (9th edition, June 2006) (API Std 510), IBR approved for §§ 195.205 and 195.432.

(17) API Standard 620, “Design and Construction of Large, Welded, Low-Pressure Storage Tanks” (11th edition February 2008, addendum 1, March 2009), and includes addendum 2 (2010) (API Std 620), IBR approved for §§ 195.132; 195.205; 195.264; and 195.307, 195.565, and 195.620.

(18) API Standard 650, “Welded Steel Tanks for Oil Storage” (11th edition, June 2007), includes addendum 1 (November 2008), addendum 2 (November 2009), addendum 3 (August 2011), and errata (February 2012) (API Std 650), IBR approved for §§ 195.132; 195.205; 195.264; 195.307; 195.565; and 195.579.

(19) API Standard 653, “Tank Inspection, Repair, Alteration, and Reconstruction” (3rd edition, December 2001, includes addendum 1 (September 2003), addendum 2 (November 2005), addendum 3 (February 2008), and errata (April 2008)) (except—section 6.4.3) (API Std 653), IBR approved for §§ 195.205 (b); 195.307 (d) and 195.432 (b).

(20) API Standard 1104, “Welding of Pipelines and Related Facilities” (20th edition, October 2005, errata/addendum (July 2007) and, errata 2 (2008) (API Std 1104), IBR approved for §§ 195.222 (a) and 195.228 (b).

(21) API Standard 2000, “Venting Atmospheric and Low-Pressure Storage Tanks” (6th edition, November 1, 2009) (API Std 2000), IBR approved for § 195.264 (e).

(22) API Standard 2510, “Design and Construction of LPG Installations” (8th edition, 2001) (API Std 2510), IBR approved for §§ 195.132 (b); 195.205 (b); 195.264 (b) & (e); 195.307 (e); 195.428 (c) and 195.432 (c).

(c) ASME International (ASME), Two Park Avenue, New York, NY 10016-5990, 800-843-2763 (U.S/Canada), http://www.asme.org/.

(1) ASME/ANSI B16.9-2007, “Factory-Made Wrought Buttwelding Fittings” (December 7, 2007) (ASME/ANSI B16.9), IBR approved for § 195.118 (a).

(2) ASME/ANSI B31G-1991 (Reaffirmed; 2004), “Manual for Determining the Remaining Strength of Corroded Pipelines” (ASME/ANSI B31G), IBR approved for §§ 195.452 (h) and 195.587.

(3) ASME/ANSI B31.4-2006, “Pipeline Transportation Systems for Liquid Hydrocarbons and Other Liquids” (October 20, 2006) (ASME/ANSI B31.4), IBR approved for §§ 195.110.

(4) ASME/ANSI B31.8-2007, “Gas Transmission and Distribution Piping Systems” (November 30, 2007) (ASME/ANSI B31.8), IBR approved for §§ 195.5 (a) and 195.406 (a).

(5) 2007 ASME Boiler & Pressure Vessel Code, Section VIII, Division 1 “Rules for Construction of Pressure Vessels” (2010 edition, July 1, 2007) (ASME BPVC, Section VIII, Division 1), IBR approved for §§ 195.124 and 195.307 (e).

(6) 2007 ASME Boiler & Pressure Vessel Code, Section VIII, Division 2 “Alternate Rules, Rules for Construction of Pressure Vessels” (2010 edition, July 1, 2007) (ASME BPVC, Section VIII, Division 2), IBR approved for § 195.307 (e).

(7) 2007 ASME Boiler & Pressure Vessel Code, Section IX: “Qualification Standard for Welding and Brazing Procedures, Welders, Brazers, and Welding and Brazing Operators” (2007 edition, July 1, 2007) (ASME BPVC, Section IX), IBR approved for § 195.307 (e).

(d) American Society for Testing and Materials (ASTM), 100 Barr Harbor Drive, PO Box C700, West Conshohocken, PA 119428-2959, phone: (610) 832-9585, http://www.astm.org/.

(1) ASTM A53/A53M-10, “Standard Specification for Pipe, Steel, Black and Hot-Dipped, Zinc-Coated, Welded and Seamless” (October 2, 2010) (ASTM A53/A53M), IBR approved for § 195.106.

(2) ASTM A106/A106M-10, “Standard Specification for Seamless Carbon Steel Pipe for High-Temperature Service” (April 1, 2010) (ASTM A106/A106M), IBR approved for § 195.106 (e).

(3) ASTM A333/A333M-11, “Standard Specification for Seamless and Welded Steel Pipe for Low-Temperature Service” (April 01, 2011) (ASTM A333/A333M), IBR approved for § 195.106 (e).

(4) ASTM A381-96 (reapproved 2005), “Standard Specification for Metal-Arc Welded Steel Pipe for Use with High-Pressure Transmission Systems” (October 1, 2005) (ASTM A381), IBR approved for § 195.106 (e).

(5) ASTM A671/A671M-10, “Standard Specification for Electric-Fusion-Welded Steel Pipe for Atmospheric and Lower Temperatures” (April 1, 2010) (ASTM A671/A671M), IBR approved for § 195.106 (e).

(6) ASTM A672-09, “Standard Specification for Electric-Fusion-Welded Steel Pipe for High-Pressure Service at Moderate Temperatures” (October 1, 2009) (ASTM A672), IBR approved for § 195.106 (e).

(7) ASTM A691-09, “Standard Specification for Carbon and Alloy Steel Pipe, Electric-Fusion-Welded for High-Pressure Service at High Temperatures” (October 1, 2009) (ASTM A691), IBR approved for § 195.106 (e).

(e) Manufacturers Standardization Society of the Valve and Fittings Industry, Inc. (MSS), 127 Park St. NE., Vienna, VA 22180-4602, phone: 703-281-6613, http://www.mss-hq.org/.

(1) MSS SP-75-2008, “Specification for High Test Wrought Butt Welding Fittings” (MSS SP 75), IBR approved for § 195.118 (a).

(2) [Reserved]

(f) NACE International (NACE), 1440 South Creek Drive, Houston, TX 77084-4906, phone: 281-228-6223 or 800-797-6223, http://www.nace.org/Publications/.

(1) NACE SP0169-2007, Standard Practice, “Control of External Corrosion on Underground or Submerged Metallic Piping Systems” (reaffirmed March 15, 2007) (NACE SP0169), IBR approved for §§ 195.571 and 195.573 (a)(2).

(2) NACE SP0502-2010, Standard Practice, “Pipeline External Corrosion Direct Assessment Methodology” (June 24, 2010) (NACE SP0502), IBR approved for § 195.588 (b).

(g) National Fire Protection Association (NFPA), 1 Batterymarch Park, Quincy, Massachusetts 02169-7471, phone: 1 617 984-7275, http://www.nfpa.org/.

(1) NFPA-30 (Fire) (2012), “Flammable and Combustible Liquids Code,” includes Errata 1, Errata 2 (2012 edition, June 20, 2011) (NFPA-30), IBR approved for § 195.264 (b).

(2) [Reserved]

(h) Pipeline Research Council International, Inc. (PRCI), c/o Technical Toolboxes, 3801 Kirby Drive, Suite 520, P. O. Box 980550, Houston, TX 77098-0550, phone: 713-630-0505, toll free: 866-866-6766, http://www.ttoolboxes.com/. (Formerly publication number AGA Project PR-3-805.)

(1) Pipeline Research Committee, Project PR-3-805, “A Modified Criterion for Evaluating the Remaining Strength of Corroded Pipe,” (December 22, 1989). The RSTRENG program may be used for calculating remaining strength. (PRCI PR-3-805 (R-STRENG)), IBR approved for § 195.587.

(2) [Reserved]

42. Amend § 195.106 as follows:

a. In paragraph (b)(1)(i), remove the term “API Specification 5L” and, add in its place, the term “ANSI/API Spec 5L (incorporated by reference, see § 195.3).”

b. Revise paragraph (e) to read as follows:

§ 195.106 Internal design pressure.

* * * * *

(e)(1) The seam joint factor used in paragraph (a) of this section is determined in accordance with the following standards incorporated by reference (see § 195.3):

Specification | Pipe class | Seam joint factor
ASTM A53/A53M | Seamless | 1.00
| Electric resistance welded | 1.00
| Furnace lap welded | 0.80
| Furnace butt welded | 0.60
ASTM A106/A106M | Seamless | 1.00
ASTM A333/A333M | Seamless | 1.00
| Welded | 1.00
ASTM A381 | Double submerged arc welded | 1.00
ASTM A671/A671M | Electric-fusion-welded | 1.00
ASTM A672 | Electric-fusion-welded | 1.00
ASTM A691 | Electric-fusion-welded | 1.00
ANSI/API Spec 5L | Seamless | 1.00
| Electric resistance welded | 1.00
| Electric flash welded | 1.00
| Submerged arc welded | 1.00
| Furnace lap welded | 0.80
| Furnace butt welded | 0.60

(2) The seam joint factor for pipe which is not covered by this paragraph must be approved by the Administrator.

§ 195.116 [Amended]

43. Amend § 195.116 paragraph (d), by removing the term “API Standard 6D” and adding, in its place the term, “ANSI/API Spec 6D.”

§ 195.118 [Amended]

44. Amend § 195.118 paragraph (a), by removing the terms “ASME/ANSI B16.9 or MSS Standard Practice SP-75” and adding, in their place the terms “ASME/ANSI B16.9 (incorporated by reference, see § 195.3) or MSS SP-75 (incorporated by reference, see § 195.3).”

45. Section 195.124 is revised to read as follows:

§ 195.124 Closures.

Each closure to be installed in a pipeline system must comply with the 2007 ASME Boiler and Pressure Vessel Code (BPVC) (Section VIII, Division 1) (incorporated by reference, see § 195.3) and must have pressure and temperature ratings at least equal to those of the pipe to which the closure is attached.

§ 195.132 [Amended]

46. Amend § 195.132 paragraphs (b)(1), (b)(2), (b)(3), and (b)(4) as follows:

a. Amend paragraph (b)(1) by removing the term “API Specification 12F” and adding, in its place “API Spec 12F (incorporated by reference, see § 195.3).”

b. Amend paragraph (b)(2) by removing the term “API Standard 620” and adding, in its place “API Std 620 (incorporated by reference, see § 195.3).”

c. Amend paragraph (b)(3), by removing the term “API Standard 650” and adding, in its place “API Std 650 (incorporated by reference, see § 195.3).”

d. Amend paragraph (b)(4), by removing the term “API Standard 2510” and adding, in its place “API Std 2510 (incorporated by reference, see § 195.3).”

§ 195.134 [Amended]

47. Amend § 195.134, by removing the term “API 1130” and adding, in its place “API RP 1130 (incorporated by reference, see § 195.3),” the first instance, and adding, in its place “API RP 1130,” the second instance.

48. In 195.205, paragraph (b) is revised to read as follows:

§ 195.205 Repair, alteration and reconstruction of aboveground breakout tanks that have been in service.

* * * * *

(b) After October 2, 2000, compliance with paragraph (a) of this section requires the following:

(1) For tanks designed for approximate atmospheric pressure, constructed of carbon and low alloy steel, welded or riveted, and non-refrigerated, and for tanks built to API Std 650 (incorporated by reference, see § 195.3), or its predecessor Standard 12C, repair, alteration, and reconstruction must be in accordance with API Std 653 (incorporated by reference, see § 195.3).

(2) For tanks built to API Spec 12F (incorporated by reference, see § 195.3) or API Std 620 (incorporated by reference, see § 195.3), repair, alteration, and reconstruction must be in accordance with the design, welding, examination, and material requirements of those respective standards.

(3) For high pressure tanks built to API Std 2510 (incorporated by reference, see § 195.3), repairs, alterations, and reconstruction must be in accordance with API Std 510 (incorporated by reference, see § 195.3).

49. Amend § 195.207 as follows:

a. In paragraph (a), remove the term, “API Recommended Practice 5L1” and add, in its place, the term “API RP 5L1.”

b. In paragraph (b), remove the term, “API Recommended Practice 5LW” and add, in its place, the term “API RP 5LW.”

c. Add a new paragraph (c) to read as set forth below:

§ 195.207 Transportation of pipe.

* * * * *

(c) Truck. In a pipeline to be operated at a hoop stress of 20 percent or more of SMYS, an operator may not use pipe having an outer diameter to wall thickness ratio of 70 to 1, or more, that is transported by truck unless the transportation is performed in accordance with API RP 5LT (incorporated by reference, see § 195.3).

50. In § 195.222, revise the section heading, paragraphs (a) and (b)(2) to read as follows:

§ 195.222 Welders: Qualification of welders and welding operators.

(a) Each welder or welding operator must be qualified in accordance with section 6 or 12 of API Std 1104 (incorporated by reference, see § 195.3) or with Section IX of 2007 ASME Boiler and Pressure Vessel Code (BPVC) (incorporated by reference, see § 195.3), except, that a welder qualified under an earlier edition than listed in § 195.3 may weld, but may not re-qualify under that earlier edition.

(b) * * *

(2) Had one weld tested and found acceptable under section 9 or Appendix A of API Std 1104 (incorporated by reference, see § 195.3).

§ 195.228 [Amended]

51. Amend § 195.228 paragraph (b), by removing the term “API 1104” and, add in its place the term, “API Std 1104” in two locations.

52. In § 195.264, the introductory text of paragraph (b)(1), and paragraphs (b)(2), (e)(1), (e)(2), (e)(3), and (e)(4) are revised to read as follows:

§ 195.264 Impoundment, protection against entry, normal/emergency venting or pressure/vacuum relief for aboveground breakout tanks.

* * * * *

(b) * * *

(1) For tanks built to API Spec 12F, API Std 620, and others (such as API Std 650 or its predecessor Standard 12C), the installation of impoundment must be in accordance with the following sections of NFPA-30 (incorporated by reference, see § 195.3);

* * * * *

(2) For tanks built to API Std 2510 (incorporated by reference, see § 195.3), the installation of impoundment must be in accordance with section 5 or 11 of API Std 2510.

* * * * *

(e) * * *

(1) Normal/emergency relief venting installed on atmospheric pressure tanks built to API Spec 12F must be in accordance with section 4, and Appendices B and C, of API Spec 12F (incorporated by reference, see § 195.3).

(2) Normal/emergency relief venting installed on atmospheric pressure tanks (such as those built to API Std 650 (or its predecessor Standard 12C) must be in accordance with API Std 2000 (incorporated by reference, see § 195.3).

(3) Pressure-relieving and emergency vacuum-relieving devices installed on low pressure tanks built to API Std 620 must be in accordance with section 9 of API Std 620 (incorporated by reference, see § 195.3) and its references to the normal and emergency venting requirements in API Std 2000 (incorporated by reference, see § 195.3)

(4) Pressure and vacuum-relieving devices installed on high pressure tanks built to API Std 2510 must be in accordance with sections 7 or 11 of API Std 2510 (incorporated by reference, see § 195.3).

53. Section 195.307 is revised to read as follows:

§ 195.307 Pressure testing aboveground breakout tanks.

(a) For aboveground breakout tanks built into API Spec 12F (incorporated by reference, see § 195.3) and first placed in service after October 2, 2000, pneumatic testing must be in accordance with section 5.3 of API Spec 12 F.

(b) For aboveground breakout tanks built to API Std 620 (incorporated by reference, see § 195.3) and first placed in service after October 2, 2000, hydrostatic and pneumatic testing must be in accordance with section 7.18 of API Std 620.

(c) For aboveground breakout tanks built to API Std 650 (incorporated by reference, see § 195.3) and first placed in service after October 2, 2000, testing must be in accordance with Sections 7.3.5 and 7.3.6 of API Standard 650.

(d) For aboveground atmospheric pressure breakout tanks constructed of carbon and low alloy steel, welded or riveted, and non-refrigerated, and tanks built to API Std 650 (incorporated by reference, see § 195.3), or its predecessor Standard 12C, that are returned to service after October 2, 2000, the necessity for the hydrostatic testing of repair, alteration, and reconstruction is covered in Section 12.3 of API Std 653.

(e) For aboveground breakout tanks built to API Std 2510 (incorporated by reference, see § 195.3) and first placed in service after October 2, 2000, pressure testing must be in accordance with 2007 ASME Boiler and Pressure Vessel Code (BPVC) (Section VIII, Division 1 or 2).

54. Section 195.405 is revised to read as follows:

§ 195.405 Protection against ignitions and safe access/egress involving floating roofs.

(a) After October 2, 2000, protection provided against ignitions arising out of static electricity, lightning, and stray currents during operation and maintenance activities involving aboveground breakout tanks must be in accordance with API RP 2003 (incorporated by reference, see § 195.3), unless the operator notes in the procedural manual (§ 195.402(c)) why compliance with all or certain provisions of API RP 2003 is not necessary for the safety of a particular breakout tank.

(b) The hazards associated with access/egress onto floating roofs of in-service aboveground breakout tanks to perform inspection, service, maintenance or repair activities (other than specified general considerations, specified routine tasks or entering tanks removed from service for cleaning) are addressed in API Pub 2026 (incorporated by reference, see § 195.3). After October 2, 2000, the operator must review and consider the potentially hazardous conditions, safety practices and procedures in API Pub 2026 for inclusion in the procedure manual (§ 195.402(c)).

55. In § 195.428, revise paragraph (c) to read as follows:

§ 195.428 Overpressure safety devices and overfill protection systems.

* * * * *

(c) Aboveground breakout tanks that are constructed or significantly altered according to API Std 2510 (incorporated by reference, see § 195.3) after October 2, 2000, must have an overfill protection system installed according to section 7.1.2 of API Std 2510. Other aboveground breakout tanks with 600 gallons (2271 liters) or more of storage capacity that are constructed or significantly altered after October 2, 2000, must have an overfill protection system installed according to API RP 2350 (incorporated by reference, see § 195.3). However, operators need not comply with any part of API RP 2350 for a particular breakout tank if the operator notes in the manual required by § 195.402 why compliance with that part is not necessary for safety of the tank.

* * * * *

56. In § 195.432, revise paragraphs (b) and (c) to read as follows:

§ 195.432 Inspection of in-service breakout tanks.

* * * * *

(b) Each operator must inspect the physical integrity of in-service atmospheric and low-pressure steel above-ground breakout tanks according to API Std 653 (except section 6.4.3) (incorporated by reference, see § 195.3). However, if structural conditions prevent access to the tank bottom, the bottom integrity may be assessed according to a plan included in the operations and maintenance manual under 195.402(c)(3). The inspection interval must not use the guidance in API Std 653, section 6.4.3 concerning risk-based inspection intervals.

(c) Each operator must inspect the physical integrity of in-service steel aboveground breakout tanks built to API Std 2510 (incorporated by reference, see § 195.3) according to section 6 of API Std 510 (incorporated by reference, see § 195.3).

* * * * *

§ 195.444 [Amended]

57. Amend § 195.444, by removing the term “API 1130” and adding in its place, “API RP 1130 (incorporated by reference, see § 195.3).”

58. In § 195.452, revise paragraphs (h)(4)(i)(B), (h)(4)(iii)(D) and the introductory text of (l)(1) to read as follows:

§ 195.452 Pipeline integrity management in high consequence areas.

* * * * *

(h) * * *

(4) * * *

(i) * * *

(B) A calculation of the remaining strength of the pipe shows a predicted burst pressure less than the established maximum operating pressure at the location of the anomaly. Suitable remaining strength calculation methods include, but are not limited to, ASME/ANSI B31G (incorporated by reference, see § 195.3) or PRCI PR-3-805 (R-STRENG) (incorporated by reference, see § 195.3).

* * * * *

(iii) * * *

(D) A calculation of the remaining strength of the pipe shows an operating pressure that is less than the current established maximum operating pressure at the location of the anomaly. Suitable remaining strength calculation methods include, but are not limited to, ASME/ANSI B31G or PRCI PR-3-805 (R-STRENG).

* * * * *

(l) What records must an operator keep to demonstrate compliance?

(1) An operator must maintain, for the useful life of the pipeline, records that demonstrate compliance with the requirements of this subpart. At a minimum, an operator must maintain the following records for review during an inspection:

* * * * *

59. Section 195.565 is revised to read as follows:

§ 195.565 How do I install cathodic protection on breakout tanks?

After October 2, 2000, when you install cathodic protection under § 195.563(a) to protect the bottom of an aboveground breakout tank of more than 500 barrels (79.5m3) capacity built to API Spec 12F (incorporated by reference, see § 195.3), API Std 620 (incorporated by reference, see § 195.3), or API Std 650 (incorporated by reference, see § 195.3), or its predecessor Standard 12C, you must install the system in accordance with ANSI/API RP 651 (incorporated by reference, see § 195.3). However, installation of the system need not comply with ANSI/API RP 651 on any tank for which you note in the corrosion control procedures established under § 195.402(c)(3) why compliance with all or certain provisions of ANSI/API RP 651 is not necessary for the safety of the tank.

60. In § 195.573, revise paragraph (d) to read as follows:

§ 195.573 What must I do to monitor external corrosion control?

* * * * *

(d) Breakout tanks. You must inspect each cathodic protection system used to control corrosion on the bottom of an aboveground breakout tank to ensure that operation and maintenance of the system are in accordance with API RP 651 (incorporated by reference, see § 195.3). However, this inspection is not required if you note in the corrosion control procedures established under § 195.402(c)(3) why compliance with all or certain operation and maintenance provisions of API RP 651 is not necessary for the safety of the tank.

61. In § 195.579, revise paragraph (d) to read as follows:

§ 195.579 What must I do to mitigate internal corrosion?

* * * * *

(d) Breakout tanks. After October 2, 2000, when you install a tank bottom lining in an aboveground breakout tank built to API Spec 12F (incorporated by reference, see § 195.3), API Std 620 (incorporated by reference, see § 195.3), or API Std 650 (incorporated by reference, see § 195.3), or its predecessor Standard 12C, you must install the lining in accordance with API RP 652 (incorporated by reference, see § 195.3). However, installation of the lining need not comply with API RP 652 on any tank for which you note in the corrosion control procedures established under § 195.402(c)(3) why compliance with all or certain provisions of API RP 652 is not necessary for the safety of the tank.

62. Section 195.587 is revised to read as follows:

§ 195.587 What methods are available to determine the strength of corroded pipe?

Under § 195.585, you may use the procedure in ASME/ANSI B31G (incorporated by reference, see § 195.3) or PRCI PR-3-805 (R-STRENG) (incorporated by reference, see § 195.3), to determine the strength of corroded pipe based on actual remaining wall thickness. These procedures apply to corroded regions that do not penetrate the pipe wall, subject to the limitations set out in the respective procedures.

PART 199—DRUG AND ALCOHOL TESTING

63. The authority citation for part 199 continues to read as follows:

Authority: 49 U.S.C. 5103, 60102, 60104, 60108, 60117, and 60118; and 49 CFR 1.53.

§ 199.111 [Removed and Reserved]

64. Remove and reserve § 199.111.

Issued in Washington, DC, on August 5, 2013.
Jeffrey D. Wiese,
Associate Administrator for Pipeline Safety.

[FR Doc. 2013-19348 Filed 8-15-13; 8:45 am]

BILLING CODE 4910-60-P